ENVIRONMENTAL PROTECTION AGENCY

40 CFR Part 52

[VA201-5202; FRL-8923-9]

Approval and Promulgation of Air Quality Implementation Plans; Virginia; Update to Materials Incorporated by Reference

AGENCY: Environmental Protection Agency (EPA).

ACTION: Final rule; administrative change.

SUMMARY: EPA is updating the materials submitted by Virginia that are incorporated by reference (IBR) into the State implementation plan (SIP). The regulations affected by this update have been previously submitted by the Virginia Department of Environmental Quality (DEQ) and approved by EPA. This update affects the SIP materials that are available for public inspection at the National Archives and Records Administration (NARA), the Air and Radiation Docket and Information Center located at EPA Headquarters in Washington, DC, and the Regional Office.

DATES: Effective Date: This action is effective July 13, 2009.

ADDRESSES: SIP materials which are incorporated by reference into 40 CFR part 52 are available for inspection at the following locations: Air Protection Division, U.S. Environmental Protection Agency, Region III, 1650 Arch Street, Philadelphia, Pennsylvania 19103; the Air and Radiation Docket and Information Center, EPA Headquarters Library, Room Number 3334, EPA West Building, 1301 Constitution Ave. NW., Washington, DC 20460, and the National Archives and Records Administration. If you wish to obtain materials from a docket in the EPA Headquarters Library, please call the Office of Air and Radiation (OAR) Docket/Telephone number: (202) 566-1742; or the National Archives and Records Administration (NARA). For information on the availability of this material at NARA, call 202-741-6030, or go to: http://www.archives.gov/federal_register/code_of_federal_regulations/ibr_locations.html.

FOR FURTHER INFORMATION CONTACT: Harold A. Frankford, (215) 814-2108 or by e-mail at frankford.harold@epa.gov.

SUPPLEMENTARY INFORMATION:

I. Background

The SIP is a living document which the State revises as necessary to address the unique air pollution problems. Therefore, EPA from time to time must take action on SIP revisions containing new and/or revised regulations to make them part of the SIP. On May 22, 1997 (62 FR 27968), EPA revised the procedures for incorporating by reference Federally-approved SIPs, as a result of consultations between EPA and the Office of the Federal Register (OFR). The description of the revised SIP document, IBR procedures and “Identification of plan” format are discussed in further detail in the May 22, 1997 Federal Register document. On April 21, 2000 (65 FR 21315), EPA published a Federal Register action beginning the new IBR procedure for Virginia. On September 8, 2004 (69 FR 54216), November 3, 2005 (70 FR 66769) and July 16, 2007 (72 FR 38920), EPA published updates to the IBR material for Virginia.

II. EPA Action

In this document, EPA is doing the following:

A. Announcing the update to the IBR material as of June 1, 2009.

B. Making corrections to the following entries listed in the paragraph 52.2420(c) table, as described below:

1. In the entry 5-20-203, revising the text in the “Title/subject” column.

2. Revising the titles for the following entries: Chapter 40, Part II, Articles 49 and 50.

3. Incorporating the entry for 5-40-1750.

4. In the entry 5-40-1670, reorganizing the text in the “Title/subject” and “Explanation [former SIP citation]” columns without making any substantive revisions to the list of SIP-approved definitions.

5. In the entry 5-40-5610, removing the quotation marks from the terms listed in the “Explanation [former SIP section]” column.

6. In the entry 5-40-7810, removing the quotation marks from the terms listed in the “Title/subject” column.

7. Removing entries 5-80-1835, 5-80-1845, and 5-80-1855, they are designated as “reserved,” and contain no text that is incorporated by reference.

8. In the entry 5-80-2130, correcting a typographical error to the text in the “Title/subject” column.

9. Correcting the date format in the “State effective date” column for the following entries: Chapter 10, section 5-10-20; Chapter 20, section 5-20-203; Chapter 40, Part II, Article 4, section 5-40-300; Article 36, section 5-40-5060; Article 37, section 5-40-5200; Article 41, section 5-40-5700; Article 42, sections 5-40-5700, 5-40-5720, and 5-20-5750; Article 48, section 5-40-6970; Article 49, sections 5-40-7120, 5-40-7130, 5-40-7140, and 5-40-7210; Article 50, sections 5-40-7240, 5-40-7270, 5-40-7300, 5-40-7330, and 5-40-7360; Article 53, all sections; and Chapter 230, all sections.

C. In the paragraph 52.2420(d) table, correcting the date format in the “State effective date” column for the following entries: Columbia Gas Transmission Company-Loudoun County Compressor Station, and Global Stone Chemstone Corporation.

D. Making corrections to the following entries listed in the paragraph 52.2420(e) table, as described below:

1. Rearranging the order of entries for “Documents Incorporated by Reference.”

2. Correcting the date format in the “State effective date” column for the following entries: All nonregulatory and quasi-regulatory entries associated with the Washington 1-hour ozone nonattainment area, and the entry for RACT under the 8-Hour NAAQS (Stafford County).

3. Removing the SIP effective date text in the “Additional explanation column” for the entry entitled “Documents Incorporated by Reference (9 VAC 5-20-21, Paragraphs E.4.a.(21) and (22)).” EPA has determined that today's rule falls under the “good cause” exemption in section 553(b)(3)(B) of the Administrative Procedures Act (APA) which, upon finding “good cause,” authorizes agencies to dispense with public participation, and section 553(d)(3) which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by removing outdated citations and incorrect chart entries.

III. Statutory and Executive Order Reviews

A. General Requirements

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

EPA has also determined that the provisions of section 307(b)(1) of the Clean Air Act pertaining to petitions for judicial review are not applicable to this action. Prior EPA rulemaking actions for each individual component of the Virginia SIP compilations had previously afforded interested parties the opportunity to file a petition for judicial review in the United States Court of Appeals for the appropriate circuit within 60 days of such rulemaking action. Thus, EPA sees no need in this action to reopen the 60-day period for filing such petitions for judicial review for this “Identification of plan” reorganization update action for Virginia.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: June 11, 2009.
William C. Early,
Acting Regional Administrator, Region III.

40 CFR part 52 is amended as follows:

PART 52—[AMENDED]

1. The authority for citation for part 52 continues to read as follows:

Authority: 42.U.S.C. 7401 et seq.

Subpart VV—Virginia

2. Section 52.2420 is amended by revising paragraphs (b), (c), (d), and (e) to read as follows:

§ 52.2420 Identification of plan.

* * * * *

(b) Incorporation by reference.

(1) Material listed as incorporated by reference in paragraphs (c) and (d) was approved for incorporation by reference by the Director of the Federal Register in accordance with 5 U.S.C. 552(a) and 1 CFR part 51. Material incorporated as it exists on the date of the approval, and notice of any change in the material will be published in the Federal Register. Entries in paragraphs (c) and (d) of this section with EPA approval dates on or after June 1, 2009 will be incorporated by reference in the next update to the SIP compilation.

(2) EPA Region III certifies that the rules/regulations and source-specific requirements provided by EPA at the addresses in paragraph (b)(3) of this section are an exact duplicate of the officially promulgated State rules/regulations and source-specific requirements which have been approved as part of the State implementation plan as of June 1, 2009.

(3) Copies of the materials incorporated by reference may be inspected at the EPA Region III Office at 1650 Arch Street, Philadelphia, PA 19103. For further information, call (215) 814-2108; the EPA, Air and Radiation Docket and Information Center, Room Number 3334, EPA West Building, 1301 Constitution Avenue NW., Washington, DC. 20460. For further information, call (202) 566-1742; or at the National Archives and Records Administration (NARA). For information on the availability of this material at NARA, call 202-741-6030, or go to: http://www.archives.gov/federal_register/code_of_federal_regulations/ibr_locations.html.

(c) EPA-approved regulations.

EPA-Approved Virginia Regulations and Statutes
State citation | Title/subject | State effective date | EPA approval date | Explanation [former SIP citation]
9 VAC 5, Chapter 10 General Definitions [Part I]
5-10-10 | General | 8/1/02 | 3/15/04, 69 FR 12074 | Revised paragraphs A, B, C.
5-10-20 | Terms Defined—Definitions of Administrator, Federally Enforceable, Implementation Plan, Potential to Emit, State Enforceable, Volatile Organic Compound | 4/1/96 | 3/12/97, 62 FR 11334 | § 52.2465(c)(113)(i)(B)(1).
5-10-20 | Terms Defined—Added Terms—Department, Virginia Register Act, Revised Terms—Administrative Process Act, Director (replaces Executive Director), Virginia Air Pollution Control Law | 4/17/95 | 4/21/00, 65 FR 21315
5-10-20 | Terms Defined [all other SIP-approved terms not listed above] | 4/17/95 | 4/21/00, 65 FR 21315 | 120-01-02.
5-10-20 | Terms Defined | 1/1/98 | 1/7/03, 68 FR 663 | Terms Added—Public hearing; Regulations for the Control and Abatement of Air Pollution, Regulation of the Board, These regulations.
|  |  |  | Terms Revised—Good Engineering Practice, Person, Volatile organic compound.
|  |  |  | Terms Deleted (moved to 9 VAC 5-170-20)—Administrative Process Act, Air quality maintenance area, Confidential information, Consent agreement, Consent order, Emergency special order, Order, Special order, Variance.
5-10-20 | Terms Defined | 8/1/02 | 3/15/04, 69 FR 12074 | Terms Added: EPA, Initial emissions test, Initial performance test (as corrected 11/05/03 and effective 01/01/04 in the Commonwealth), Maintenance area.
|  |  |  | Terms Revised: Affected facility, Delayed compliance order, Excessive concentration, Federally enforceable, Malfunction, Public hearing, Reference method, Reid vapor pressure, Stationary source, True vapor pressure, Vapor pressure, Volatile organic compounds.
|  |  |  | Terms Removed: Air Quality Maintenance Area.
5-10-20 | Terms Defined | 5/04/05 | 8/18/06, 71 FR 47742 | Definition of “volatile organic compound”.
5-10-30 | Abbreviations | 7/1/97 | 4/21/00, 65 FR 21315 | Appendix A.
9 VAC 5, Chapter 20 General Provisions
Part I Administrative
5-20-10A.-C | Applicability | 4/17/95 | 4/21/00, 65 FR 21315 | 120-02-01.
5-20-70 | Circumvention | 4/17/95 | 4/21/00, 65 FR 21315 | 120-02-07.
5-20-80 | Relationship of state regulations to Federal regulations | 4/17/95 | 4/21/00, 65 FR 21315 | 120-02-08.
5-20-121 | Air Quality Program Policies and Procedures | 7/1/97 | 4/21/00, 65 FR 21315 | Appendix S.
Part II Air Quality Programs
5-20-160 | Registration | 4/17/95 | 4/21/00, 65 FR 21315 | 120-02-31.
5-20-170 | Control Programs | 4/17/95 | 4/21/00, 65 FR 21315 | 120-02-32.
5-20-180 | Facility and Control Equipment Maintenance or Malfunction | 4/17/95 | 4/21/00, 65 FR 21315 | 120-02-34.
5-20-200 | Air Quality Control Regions (AQCR) | 7/1/97 | 4/21/00, 65 FR 21315 | Appendix B.
5-20-202 | Metropolitan Statistical Areas | 7/1/97 | 4/21/00, 65 FR 21315 | Appendix G.
5-20-203 | Air Quality Maintenance Areas | 7/29/08 | 10/29/08, 73 FR 64210 | Richmond and Hampton Roads 8-Hour Ozone Areas are added.
5-20-204 | Nonattainment Areas | 7/29/08 | 10/29/08, 73 FR 64210 | Richmond and Hampton Roads 8-Hour Ozone Areas are deleted.
5-20-205 | Prevention of Significant Deterioration Areas | 01/01/98, 04/01/98, 01/01/99, 08/25/04 | 8/18/06, 71 FR 47744
5-20-206 | Volatile Organic Compound and Nitrogen Oxides Emissions Control Areas | 10/04/06 | 3/2/07, 72 FR 9441 | Addition of new Fredericksburg Area and expansion of Richmond and Hampton Roads Emission Control Areas.
5-20-220 | Shutdown of a stationary source | 4/1/98 | 6/27/03, 68 FR 38191
5-20-230 | Certification of Documents | 4/1/98 | 6/27/03, 68 FR 38191
VR120, Part II General Provisions
VR120-02-02 | Establishment of Regulations and Orders | 2/1/85 | 2/25/93, 58 FR 11373 | EPA has informed VA that except for the Appeals rule, these provisions no longer need to be part of the SIP. VA has withdrawn 2/93 and 2/98 revisions to the Appeals rule from SIP review. Last substantive SIP change became State-effective on 8/6/79 [§ 52.2465(c)(55)].
VR120-02-04 | Hearings and Proceedings | 2/1/85 | 2/25/93, 58 FR 11373
VR120-02-05A | Variances—General | 2/1/85 | 2/25/93, 58 FR 11373
VR 2.05(b) | Variances—Fuel Emergency | 8/14/75 | 10/8/80, 45 FR 66792
VR120-02-09 | Appeals | 2/1/85 | 2/25/93, 58 FR 11373
VR120-02-12 | Procedural information and guidance | 2/1/85 | 2/25/93, 58 FR 11373
Appendix E | Public Participation Guidelines | 2/1/85 | 2/25/93, 58 FR 11373
Appendix F | Delegation of Authority | 2/1/85 | 2/25/93, 58 FR 11373
9 VAC 5, Chapter 30 Ambient Air Quality Standards [Part III]
5-30-10 | General | 9/8/04 | 3/3/06, 71 FR 10842
5-30-30 | Sulfur Oxides (Sulfur Dioxide) | 9/8/04 | 3/3/06, 71 FR 10842
5-30-40 | Carbon Monoxide | 9/8/04 | 3/3/06, 71 FR 10842
5-30-50 | Ozone (1-hour) | 9/8/04 | 3/3/06, 71 FR 10842
5-30-55 | Ozone (8-hour) | 9/8/04 | 3/3/06, 71 FR 10842 | Added Section.
5-30-60 | Particulate Matter (PM10) | 9/8/04 | 3/3/06, 71 FR 10842
5-30-65 | Particulate Matter | 9/8/04 | 3/3/06, 71 FR 10842 | Added Section.
5-30-70 | Nitrogen Dioxide | 9/8/04 | 3/3/06, 71 FR 10842
5-30-80 | Lead | 9/8/04 | 3/3/06, 71 FR 10842
9 VAC 5, Chapter 40 Existing Stationary Sources [Part IV]
Part I Special Provisions
5-40-10 | Applicability | 8/1/02 | 3/15/04, 69 FR 12074
5-40-20 (except paragraph A.4.) | Compliance | 8/1/02 | 3/15/04, 69 FR 12074
5-40-21 | Compliance Schedules | 7/1/97 | 4/21/00, 65 FR 21315 | Appendix N.
5-40-22 | Interpretation of Emissions Standards Based on Process Weight-Rate Tables | 7/1/97 | 4/21/00, 65 FR 21315 | Appendix Q.
5-40-30 | Emission Testing | 8/1/02 | 3/15/04, 69 FR 12074
5-40-40 | Monitoring | 8/1/02 | 3/15/04, 69 FR 12074
5-40-41 | Emission Monitoring Procedures for Existing Sources | 7/1/97 | 4/21/00, 65 FR 21315 | Appendix J.
5-40-50 | Notification, Records and Reporting | 8/1/02 | 3/15/04, 69 FR 12074
Part II Emission Standards
Article 1 Visible Emissions and Fugitive Dust/Emissions (Rule 4-1)
5-40-60 | Applicability and Designation of Affected Facility | 4/17/95 | 4/21/00, 65 FR 21315 | 120-04-0101.
5-40-70 | Definitions | 4/17/95 | 4/21/00, 65 FR 21315 | 120-04-0102.
5-40-80 | Standard for Visible Emissions | 4/17/95 | 4/21/00, 65 FR 21315 | 120-04-0103.
5-40-90 | Standard for Fugitive Dust/Emissions | 2/1/03 | 4/29/05, 70 FR 22263
5-40-100 | Monitoring | 4/17/95 | 4/21/00, 65 FR 21315 | 120-04-0105.
5-40-110 | Test Methods and Procedures | 4/17/95 | 4/21/00, 65 FR 21315 | 120-04-0106.
5-40-120 | Waivers | 2/1/03 | 4/29/05, 70 FR 22263
Article 4 Emission Standards for General Process Operations (Rule 4-4)
5-40-240 | Applicability and Designation of Affected Facility | 1/2/02 | 2/28/08, 73 FR 10670
5-40-250 | Definitions | 1/2/02 | 2/28//08, 73 FR 10670
5-40-260 | Standard for Particulate Matter(AQCR 1-6) | 4/17/95 | 4/21/00, 65 FR 21315 | 120-04-0403.
5-40-270 | Standard for Particulate Matter (AQCR 7) | 4/17/95 | 4/21/00, 65 FR 21315 | 120-04-0404.
5-40-280 | Standard for Sulfur Dioxide | 4/17/95 | 4/21/00, 65 FR 21315 | 120-04-0405.
5-40-300 | Standard for Volatile Organic Compounds | 10/4/06 | 3/2/07, 72 FR 9441
5-40-310A.-E | Standard for Nitrogen Oxides | 3/24/04 | 4/27/05, 70 FR 21625
5-40-311 | Reasonably available control technology guidelines for stationary sources of nitrogen dioxide | 1/2/02 | 2/28/08, 73 FR 10670 | Removal of definitions Combustion unit, Fuel burning equipment Installation, and Total capacity in 9 VAC 5-40-311B.3. Exception: 311D.
5-40-320 | Standard for Visible Emissions | 4/17/95 | 4/21/00, 65 FR 21315 | 120-04-0409.
5-40-330 | Standard for Fugitive Dust/Emissions | 4/17/95 | 4/21/00, 65 FR 21315 | 120-04-0410.
5-40-360 | Compliance | 4/17/95 | 4/21/00, 65 FR 21315 | 120-04-0413.
5-40-370 | Test Methods and Procedures | 4/17/95 | 4/21/00, 65 FR 21315 | 120-04-0414.
5-40-380 | Monitoring | 4/17/95 | 4/21/00, 65 FR 21315 | 120-04-0415.
5-40-390 | Notification, Records and Reporting | 4/17/95 | 4/21/00, 65 FR 21315 | 120-04-0416.
5-40-400 | Registration | 4/17/95 | 4/21/00, 65 FR 21315 | 120-04-0417.
5-40-410 | Facility and Control Equipment Maintenance or Malfunction | 4/17/95 | 4/21/00, 65 FR 21315 | 120-04-0418.
5-40-420 | Permits | 4/17/95 | 4/21/00, 65 FR 21315 | 120-04-0419.
Article 5 Emission Standards for Synthesized Pharmaceutical Products Manufacturing Operations (Rule 4-5)
5-40-430 | Applicability and Designation of Affected Facility | 4/17/95 | 4/21/00, 65 FR 21315 | 120-04-0501.
5-40-440 | Definitions | 4/17/95 | 4/21/00, 65 FR 21315 | 120-04-0502.
4-40-450 | Standard for Volatile Organic Compounds | 4/17/95 | 4/21/00, 65 FR 21315 | 120-04-0503.
5-40-460 | Control Technology Guidelines | 2/1/02 | 3/3/06, 71 FR 10838
5-40-470 | Standard for Visible Emissions | 4/17/95 | 4/21/00, 65 FR 21315 | 120-04-0505.
5-40-480 | Standard for Fugitive Dust/Emissions | 4/17/95 | 4/21/00, 65 FR 21315 | 120-04-0506.
5-40-510 | Compliance | 4/17/95 | 4/21/00, 65 FR 21315 | 120-04-0509.
5-40-520 | Test Methods and Procedures | 4/17/95 | 4/21/00, 65 FR 21315 | 120-04-0510.
5-40-530 | Monitoring | 4/17/95 | 4/21/00, 65 FR 21315 | 120-04-0511.
5-40-540 | Notification, Records and Reporting | 4/17/95 | 4/21/00, 65 FR 21315 | 120-04-0512.
5-40-550 | Registration | 4/17/95 | 4/21/00, 65 FR 21315 | 120-04-0513.
5-40-560 | Facility and Control Equipment Maintenance or Malfunction | 4/17/95 | 4/21/00, 65 FR 21315 | 120-04-0514.
5-40-570 | Permits | 4/17/95 | 4/21/00, 65 FR 21315 | 120-04-0515.
Article 6 Emission Standards for Rubber Tire Manufacturing Operations (Rule 4-6)
5-40-580 | Applicability and Designation of Affected Facility | 4/17/95 | 4/21/00, 65 FR 21315 | 120-04-0601.
5-40-590 | Definitions | 4/17/95 | 4/21/00, 65 FR 21315 | 120-04-0602.
5-40-600 | Standard for Volatile Organic Compounds | 4/17/95 | 4/21/00, 65 FR 21315 | 120-04-0603.
5-40-610 | Control Technology Guidelines | 4/17/95 | 4/21/00, 65 FR 21315 | 120-04-0604.
5-40-620 | Standard for Visible Emissions | 4/17/95 | 4/21/00, 65 FR 21315 | 120-04-0605.
5-40-630 | Standard for Fugitive Dust/Emissions | 4/17/95 | 4/21/00, 65 FR 21315 | 120-04-0606.
5-40-660 | Compliance | 4/17/95 | 4/21/00, 65 FR 21315 | 120-04-0609.
5-40-670 | Test Methods and Procedures | 4/17/95 | 4/21/00, 65 FR 21315 | 120-04-0610.
5-40-680 | Monitoring | 4/17/95 | 4/21/00, 65 FR 21315 | 120-04-0611.
5-40-690 | Notification, Records and Reporting | 4/17/95 | 4/21/00, 65 FR 21315 | 120-04-0612.
5-40-700 | Registration | 4/17/95 | 4/21/00, 65 FR 21315 | 120-04-0613.
5-40-710 | Facility and Control Equipment Maintenance or Malfunction | 4/17/95 | 4/21/00, 65 FR 21315 | 120-04-0614.
5-40-720 | Permits | 4/17/95 | 4/21/00, 65 FR 21315 | 120-04-0615.
Article 7 Emission Standards for Incinerators (Rule 4-7)
5-40-730 | Applicability and Designation of Affected Facility | 4/17/95 | 4/21/00, 65 FR 21315 | 120-04-0701.
5-40-740 | Definitions | 4/17/95 | 4/21/00, 65 FR 21315 | 120-04-0702.
5-40-750 | Standard for Particulate Matter | 4/17/95 | 4/21/00, 65 FR 21315 | 120-04-0703.
5-40-760 | Standard for Visible Emissions | 4/17/95 | 4/21/00, 65 FR 21315 | 120-04-0704.
5-40-770 | Standard for Fugitive Dust/Emissions | 4/17/95 | 4/21/00, 65 FR 21315 | 120-04-0705.
5-40-800 | Prohibition of Flue-Fed Incinerators | 4/17/95 | 4/21/00, 65 FR 21315 | 120-04-0708.
5-40-810 | Compliance | 4/17/95 | 4/21/00, 65 FR 21315 | 120-04-0709.
5-40-820 | Test Methods and Procedures | 4/17/95 | 4/21/00, 65 FR 21315 | 120-04-0710.
5-40-830 | Monitoring | 4/17/95 | 4/21/00, 65 FR 21315 | 120-04-0711.
5-40-840 | Notification, Records and Reporting | 4/17/95 | 4/21/00, 65 FR 21315 | 120-04-0712.
5-40-850 | Registration | 4/17/95 | 4/21/00, 65 FR 21315 | 120-04-0713.
5-40-860 | Facility and Control Equipment Maintenance or Malfunction | 4/17/95 | 4/21/00, 65 FR 21315 | 120-04-0714.
5-40-870 | Permits | 4/17/95 | 4/21/00, 65 FR 21315 | 120-04-0715.
Article 8 Emission Standards for Fuel Burning Equipment (Rule 4-8)
5-40-880 | Applicability and Designation of Affected Facility | 4/1/99 | 5/31/01, 66 FR 29495
5-40-890 | Definitions | 4/1/99 | 5/31/01, 66 FR 29495
5-40-900 | Standard for Particulate Matter | 4/1/99 | 5/31/01, 66 FR 29495
5-40-910 | Emission Allocation System | 4/17/95 | 4/21/00, 65 FR 21315 | 120-04-0804.
5-40-920 | Determination of Collection Equipment Efficiency Factor | 4/17/95 | 4/21/00, 65 FR 21315 | 120-04-0805.
5-40-930 | Standard for Sulfur Dioxide | 4/17/95 | 4/21/00, 65 FR 21315 | 120-04-0806.
5-40-940 | Standard for Visible Emissions | 4/1/99 | 5/31/01, 66 FR 29495
5-40-950 | Standard for Fugitive Dust/Emissions | 4/17/95 | 4/21/00, 65 FR 21315 | 120-04-0808.
5-40-980 | Compliance | 4/17/95 | 4/21/00, 65 FR 21315 | 120-04-0811.
5-40-990 | Test Methods and Procedures | 4/17/95 | 4/21/00, 65 FR 21315 | 120-04-0812.
5-40-1000 | Monitoring | 4/17/95 | 4/21/00, 65 FR 21315 | 120-04-0813.
5-40-1010 | Notification, Records and Reporting | 4/17/95 | 4/21/00, 65 FR 21315 | 120-04-0814.
5-40-1020 | Registration | 4/17/95 | 4/21/00, 65 FR 21315 | 120-04-0815.
5-40-1030 | Facility and Control Equipment Maintenance or Malfunction | 4/17/95 | 4/21/00, 65 FR 21315 | 120-04-0816.
5-40-1040 | Permits | 4/1/99 | 5/31/01, 66 FR 29495
Article 9 Emission Standards for Coke Ovens (Rule 4-9)
5-40-1050 | Applicability and Designation of Affected Facility | 4/17/95 | 4/21/00, 65 FR 21315 | 120-04-0901.
5-40-1060 | Definitions | 4/17/95 | 4/21/00, 65 FR 21315 | 120-04-0902.
5-40-1070 | Standard for Particulate Matter | 4/17/95 | 4/21/00, 65 FR 21315 | 120-04-0903.
5-40-1080 | Standard for Sulfur Dioxide | 4/17/95 | 4/21/00, 65 FR 21315 | 120-04-0904.
5-40-1090 | Standard for Visible Emissions | 4/17/95 | 4/21/00, 65 FR 21315 | 120-04-0905.
5-40-1100 | Standard for Fugitive Dust/Emissions | 4/17/95 | 4/21/00, 65 FR 21315 | 120-04-0906.
5-40-1130 | Compliance | 4/17/95 | 4/21/00, 65 FR 21315 | 120-04-0909.
5-40-1140 | Test Methods and Procedures | 4/17/95 | 4/21/00, 65 FR 21315 | 120-04-0910.
5-40-1150 | Monitoring | 4/17/95 | 4/21/00, 65 FR 21315 | 120-04-0911.
5-40-1160 | Notification, Records and Reporting | 4/17/95 | 4/21/00, 65 FR 21315 | 120-04-0912.
5-40-1170 | Registration | 4/17/95 | 4/21/00, 65 FR 21315 | 120-04-0913.
5-40-1180 | Facility and Control Equipment Maintenance or Malfunction | 4/17/95 | 4/21/00, 65 FR 21315 | 120-04-0914.
5-40-1190 | Permits | 4/17/95 | 4/21/00, 65 FR 21315 | 120-04-0915.
Article 10 Emission Standards for Asphalt Concrete Plants (Rule 4-10)
5-40-1200 | Applicability and Designation of Affected Facility | 4/17/95 | 4/21/00, 65 FR 21315 | 120-04-1001.
5-40-1210 | Definitions | 4/17/95 | 4/21/00, 65 FR 21315 | 120-04-1002.
5-40-1220 | Standard for Particulate Matter | 4/17/95 | 4/21/00, 65 FR 21315 | 120-04-1003.
5-40-1230 | Standard for Visible Emissions | 4/17/95 | 4/21/00, 65 FR 21315 | 120-04-1004.
5-40-1240 | Standard for Fugitive Dust/Emissions | 4/17/95 | 4/21/00, 65 FR 21315 | 120-04-1005.
5-40-1270 | Compliance | 4/17/95 | 4/21/00, 65 FR 21315 | 120-04-1008.
5-40-1280 | Test Methods and Procedures | 4/17/95 | 4/21/00, 65 FR 21315 | 120-04-1009.
5-40-1290 | Monitoring | 4/17/95 | 4/21/00, 65 FR 21315 | 120-04-1010.
5-40-1300 | Notification, Records and Reporting | 4/17/95 | 4/21/00, 65 FR 21315 | 120-04-1011.
5-40-1310 | Registration | 4/17/95 | 4/21/00, 65 FR 21315 | 120-04-1012.
5-40-1320 | Facility and Control Equipment Maintenance or Malfunction | 4/17/95 | 4/21/00, 65 FR 21315 | 120-04-1013.
5-40-1330 | Permits | 4/17/95 | 4/21/00, 65 FR 21315 | 120-04-1014.
Article 11 Emission Standards for Petroleum Refinery Operations (Rule 4-11)
5-40-1340 | Applicability and Designation of Affected Facility | 4/17/95 | 4/21/00, 65 FR 21315 | 120-04-1101.
5-40-1350 | Definitions | 4/17/95 | 4/21/00, 65 FR 21315 | 120-04-1102.
5-40-1360 | Standard for Particulate Matter | 4/17/95 | 4/21/00, 65 FR 21315 | 120-04-1103.
5-40-1370 | Standard for Sulfur Dioxide | 4/17/95 | 4/21/00, 65 FR 21315 | 120-04-1104.
5-40-1390 | Standard for Volatile Organic Compounds | 4/17/95 | 4/21/00, 65 FR 21315 | 120-04-1106.
5-40-1400 | Control Technology Guidelines | 4/17/95 | 4/21/00, 65 FR 21315 | 120-04-1107.
5-40-1410 | Standard for Visible Emissions | 4/17/95 | 4/21/00, 65 FR 21315 | 120-04-1108.
5-40-1420 | Standard for Fugitive Dust/Emissions | 4/17/95 | 4/21/00, 65 FR 21315 | 120-04-1109.
5-40-1450 | Compliance | 4/17/95 | 4/21/00, 65 FR 21315 | 120-04-1112.
5-40-1460 | Test Methods and Procedures | 4/17/95 | 4/21/00, 65 FR 21315 | 120-04-1113.
5-40-1470 | Monitoring | 4/17/95 | 4/21/00, 65 FR 21315 | 120-04-1114.
5-40-1480 | Notification, Records and Reporting | 4/17/95 | 4/21/00, 65 FR 21315 | 120-04-1115.
5-40-1490 | Registration | 4/17/95 | 4/21/00, 65 FR 21315 | 120-04-1116.
5-40-1500 | Facility and Control Equipment Maintenance or Malfunction | 4/17/95 | 4/21/00, 65 FR 21315 | 120-04-1117.
5-40-1510 | Permits | 4/17/95 | 4/21/00, 65 FR 21315 | 120-04-1118.
Article 12 Emission Standards for Chemical Fertilizer Manufacturing Operations (Rule 4-12)
5-40-1520 | Applicability and Designation of Affected Facility | 4/17/95 | 4/21/00, 65 FR 21315 | 120-04-1201.
5-40-1530 | Definitions | 4/17/95 | 4/21/00, 65 FR 21315 | 120-04-1202.
5-40-1540 | Standard for Particulate Matter | 4/17/95 | 4/21/00, 65 FR 21315 | 120-04-1203.
5-40-1550 | Standard for Visible Emissions | 4/17/95 | 4/21/00, 65 FR 21315 | 120-04-1204.
5-40-1560 | Standard for Fugitive Dust/Emissions | 4/17/95 | 4/21/00, 65 FR 21315 | 120-04-1205.
5-40-1590 | Compliance | 4/17/95 | 4/21/00, 65 FR 21315 | 120-04-1208.
5-40-1600 | Test Methods and Procedures | 4/17/95 | 4/21/00, 65 FR 21315 | 120-04-1209.
5-40-1610 | Monitoring | 4/17/95 | 4/21/00, 65 FR 21315 | 120-04-1210.
5-40-1620 | Notification, Records and Reporting | 4/17/95 | 4/21/00, 65 FR 21315 | 120-04-1211.
5-40-1630 | Registration | 4/17/95 | 4/21/00, 65 FR 21315 | 120-04-1212.
5-40-1640 | Facility and Control Equipment Maintenance or Malfunction | 4/17/95 | 4/21/00, 65 FR 21315 | 120-04-1213.
5-40-1650 | Permits | 4/17/95 | 4/21/00, 65 FR 21315 | 120-04-1214.
Article 13 Emission Standards for Kraft Pulp and Paper Mills (Rule 4-13)
5-40-1660 | Applicability and Designation of Affected Facility | 4/01/99 | 10/19/07, 72 FR 59207
5-40-1670 | Definitions of cross recovery furnace, kraft pulp mill, lime kiln, recovery furnace, smelt dissolving tank | 4/17/95 | 4/21/00, 65 FR 21315 | 120-04-1302 Remaining definitions are Federally enforceable as part of the Section 111(d) plan for kraft pulp mills (see, § 62.11610).
| Definitions | 4/01/99 | 10/19/07, 72 FR 59207 | Added: Neutral sulfite semichemical pulping operation, New design recovery furnace, Pulp and paper mill, Semichemical pulping process; Straight kraft recovery furnace, Revised: Cross recovery furnace.
5-40-1680 | Standard for Particulate Matter | 4/17/95 | 4/21/00, 65 FR 21315 | 120-04-1303.
5-40-1700 | Control Technology Guidelines | 4/17/95 | 4/21/00, 65 FR 21315 | 120-04-1305.
5-40-1710 | Standard for Visible Emissions | 4/17/95 | 4/21/00, 65 FR 21315 | 120-04-1306.
5-40-1720 | Standard for Fugitive Dust/Emissions | 4/17/95 | 4/21/00, 65 FR 21315 | 120-04-1307.
5-40-1750 | Compliance | 4/01/99 | 10/19/07, 72 FR 59207
5-40-1760 | Test Methods and Procedures | 4/17/95 | 4/21/00, 65 FR 21315 | 120-04-1311.
5-40-1770A | Monitoring | 4/17/95 | 4/21/00, 65 FR 21315 | 120-04-1312A. Note: Sections 5-40-1770B. and C. are Federally enforceable as part of the Section111(d) plan for kraft pulp mills (see, § 62.11610).
5-40-1780A | Notification, Records and Reporting | 4/17/95 | 4/21/00, 65 FR 21315 | 120-04-1313A. Note: Sections 5-40-1780B. through D. are Federally enforceable as part of the Section 111(d) plan for kraft pulp mills (see, § 62.11610).
5-40-1790 | Registration | 4/17/95 | 4/21/00, 65 FR 21315 | 120-04-1314.
5-40-1800 | Facility and Control Equipment Maintenance or Malfunction | 4/17/95 | 4/21/00, 65 FR 21315 | 120-04-1315.
5-40-1810 | Permits | 4/01/99 | 10/19/07, 72 FR 59207
Article 14 Emission Standards for Sand and Gravel Processing Operations and Stone Quarrying and Processing Operations (Rule 4-14)
5-40-1820 | Applicability and Designation of Affected Facility | 4/17/95 | 4/21/00, 65 FR 21315 | 120-04-1401.
5-40-1830 | Definitions | 4/17/95 | 4/21/00, 65 FR 21315 | 120-04-1402.
5-40-1840 | Standard for Particulate Matter | 4/17/95 | 4/21/00, 65 FR 21315 | 120-04-1403.
5-40-1850 | Standard for Visible Emissions | 4/17/95 | 4/21/00, 65 FR 21315 | 120-04-1404.
5-40-1860 | Standard for Fugitive Dust/Emissions | 4/17/95 | 4/21/00, 65 FR 21315 | 120-04-1405.
5-40-1890 | Compliance | 4/17/95 | 4/21/00, 65 FR 21315 | 120-04-1408.
5-40-1900 | Test Methods and Procedures | 4/17/95 | 4/21/00, 65 FR 21315 | 120-04-1409.
5-40-1910 | Monitoring | 4/17/95 | 4/21/00, 65 FR 21315 | 120-04-1410.
5-40-1920 | Notification, Records and Reporting | 4/17/95 | 4/21/00, 65 FR 21315 | 120-04-1411.
5-40-1930 | Registration | 4/17/95 | 4/21/00, 65 FR 21315 | 120-04-1412.
5-40-1940 | Facility and Control Equipment Maintenance or Malfunction | 4/17/95 | 4/21/00, 65 FR 21315 | 120-04-1413.
5-40-1950 | Permits | 4/17/95 | 4/21/00, 65 FR 21315 | 120-04-1414.
Article 15 Emission Standards for Coal Preparation Plants (Rule 4-15)
5-40-1960 | Applicability and Designation of Affected Facility | 4/17/95 | 4/21/00, 65 FR 21315 | 120-04-1501.
5-40-1970 | Definitions | 4/17/95 | 4/21/00, 65 FR 21315 | 120-04-1502.
5-40-1980 | Standard for Particulate Matter | 4/17/95 | 4/21/00, 65 FR 21315 | 120-04-1503.
5-40-1990 | Standard for Visible Emissions | 4/17/95 | 4/21/00, 65 FR 21315 | 120-04-1504.
5-40-2000 | Standard for Fugitive Dust/Emissions | 4/17/95 | 4/21/00, 65 FR 21315 | 120-04-1505.
5-40-2030 | Compliance | 4/17/95 | 4/21/00, 65 FR 21315 | 120-04-1508.
5-40-2040 | Test Methods and Procedures | 4/17/95 | 4/21/00, 65 FR 21315 | 120-04-1509.
5-40-2050 | Monitoring | 4/17/95 | 4/21/00, 65 FR 21315 | 120-04-1510.
5-40-2060 | Notification, Records and Reporting | 4/17/95 | 4/21/00, 65 FR 21315 | 120-04-1511.
5-40-2070 | Registration | 4/17/95 | 4/21/00, 65 FR 21315 | 120-04-1512.
5-40-2080 | Facility and Control Equipment Maintenance or Malfunction | 4/17/95 | 4/21/00, 65 FR 21315 | 120-04-1513.
5-40-2090 | Permits | 4/17/95 | 4/21/00, 65 FR 21315 | 120-04-1514.
Article 16 Emission Standards for Portland Cement Plants (Rule 4-16)
5-40-2100 | Applicability and Designation of Affected Facility | 4/17/95 | 4/21/00, 65 FR 21315 | 120-04-1601.
5-40-2110 | Definitions | 4/17/95 | 4/21/00, 65 FR 21315 | 120-04-1602.
5-40-2120 | Standard for Particulate Matter | 4/17/95 | 4/21/00, 65 FR 21315 | 120-04-1603.
5-40-2130 | Standard for Sulfur Dioxide | 4/17/95 | 4/21/00, 65 FR 21315 | 120-04-1604.
5-40-2140 | Standard for Visible Emissions | 4/17/95 | 4/21/00, 65 FR 21315 | 120-04-1605.
5-40-2150 | Standard for Fugitive Dust/Emissions | 4/17/95 | 4/21/00, 65 FR 21315 | 120-04-1606.
5-40-2180 | Compliance | 4/17/95 | 4/21/00, 65 FR 21315 | 120-04-1609.
5-40-2190 | Test Methods and Procedures | 4/17/95 | 4/21/00, 65 FR 21315 | 120-04-1610.
5-40-2200 | Monitoring | 4/17/95 | 4/21/00, 65 FR 21315 | 120-04-1611.
5-40-2210 | Notification, Records and Reporting | 4/17/95 | 4/21/00, 65 FR 21315 | 120-04-1612.
5-40-2220 | Registration | 4/17/95 | 4/21/00, 65 FR 21315 | 120-04-1613.
5-40-2230 | Facility and Control Equipment Maintenance or Malfunction | 4/17/95 | 4/21/00, 65 FR 21315 | 120-04-1614.
5-40-2240 | Permits | 4/17/95 | 4/21/00, 65 FR 21315 | 120-04-1615.
Article 17 Emission Standards for Woodworking Operations (Rule 4-17)
5-40-2250 | Applicability and Designation of Affected Facility | 4/17/95 | 4/21/00, 65 FR 21315 | 120-04-1701.
5-40-2260 | Definitions | 4/17/95 | 4/21/00, 65 FR 21315 | 120-04-1702.
5-40-2270 | Standard for Particulate Matter | 4/17/95 | 4/21/00, 65 FR 21315 | 120-04-1703.
5-40-2280 | Standard for Visible Emissions | 4/17/95 | 4/21/00, 65 FR 21315 | 120-04-1704.
5-40-2290 | Standard for Fugitive Dust/Emissions | 4/17/95 | 4/21/00, 65 FR 21315 | 120-04-1705.
5-40-2320 | Compliance | 4/17/95 | 4/21/00, 65 FR 21315 | 120-04-1708.
5-40-2330 | Test Methods and Procedures | 4/17/95 | 4/21/00, 65 FR 21315 | 120-04-1709.
5-40-2340 | Monitoring | 4/17/95 | 4/21/00, 65 FR 21315 | 120-04-1710.
5-40-2350 | Notification, Records and Reporting | 4/17/95 | 4/21/00, 65 FR 21315 | 120-04-1711.
5-40-2360 | Registration | 4/17/95 | 4/21/00, 65 FR 21315 | 120-04-1712.
5-40-2370 | Facility and Control Equipment Maintenance or Malfunction | 4/17/95 | 4/21/00, 65 FR 21315 | 120-04-1713.
5-40-2380 | Permits | 4/17/95 | 4/21/00, 65 FR 21315 | 120-04-1714.
Article 18 Emission Standards for Primary and Secondary Metal Operations (Rule 4-18)
5-40-2390 | Applicability and Designation of Affected Facility | 4/17/95 | 4/21/00, 65 FR 21315 | 120-04-1801.
5-40-2400 | Definitions | 4/17/95 | 4/21/00, 65 FR 21315 | 120-04-1802.
5-40-2410 | Standard for Particulate Matter | 4/17/95 | 4/21/00, 65 FR 21315 | 120-04-1803.
5-40-2420 | Standard for Sulfur Oxides | 4/17/95 | 4/21/00, 65 FR 21315 | 120-04-1804.
5-40-2430 | Standard for Visible Emissions | 4/17/95 | 4/21/00, 65 FR 21315 | 120-04-1805.
5-40-2440 | Standard for Fugitive Dust/Emissions | 4/17/95 | 4/21/00, 65 FR 21315 | 120-04-1806.
5-40-2470 | Compliance | 4/17/95 | 4/21/00, 65 FR 21315 | 120-04-1809.
5-40-2480 | Test Methods and Procedures | 4/17/95 | 4/21/00, 65 FR 21315 | 120-04-1810.
5-40-2490 | Monitoring | 4/17/95 | 4/21/00, 65 FR 21315 | 120-04-1811.
5-40-2500 | Notification, Records and Reporting | 4/17/95 | 4/21/00, 65 FR 21315 | 120-04-1812.
5-40-2510 | Registration | 4/17/95 | 4/21/00, 65 FR 21315 | 120-04-1813.
5-40-2520 | Facility and Control Equipment Maintenance or Malfunction | 4/17/95 | 4/21/00, 65 FR 21315 | 120-04-1814.
5-40-2530 | Permits | 4/17/95 | 4/21/00, 65 FR 21315 | 120-04-1815.
Article 19 Emission Standards for Lightweight Aggregate Process Operations (Rule 4-19)
5-40-2540 | Applicability and Designation of Affected Facility | 4/17/95 | 4/21/00, 65 FR 21315 | 120-04-1901.
5-40-2550 | Definitions | 4/17/95 | 4/21/00, 65 FR 21315 | 120-04-1902.
5-40-2560 | Standard for Particulate Matter | 4/17/95 | 4/21/00, 65 FR 21315 | 120-04-1903.
5-40-2570 | Standard for Sulfur Oxides | 4/17/95 | 4/21/00, 65 FR 21315 | 120-04-1904.
5-40-2580 | Standard for Visible Emissions | 4/17/95 | 4/21/00, 65 FR 21315 | 120-04-1905.
5-40-2590 | Standard for Fugitive Dust/Emissions | 4/17/95 | 4/21/00, 65 FR 21315 | 120-04-1906.
5-40-2620 | Compliance | 4/17/95 | 4/21/00, 65 FR 21315 | 120-04-1909.
5-40-2630 | Test Methods and Procedures | 4/17/95 | 4/21/00, 65 FR 21315 | 120-04-1910.
5-40-2640 | Monitoring | 4/17/95 | 4/21/00, 65 FR 21315 | 120-04-1911.
5-40-2650 | Notification, Records and Reporting | 4/17/95 | 4/21/00, 65 FR 21315 | 120-04-1912.
5-40-2660 | Registration | 4/17/95 | 4/21/00, 65 FR 21315 | 120-04-1913.
5-40-2670 | Facility and Control Equipment Maintenance or Malfunction | 4/17/95 | 4/21/00, 65 FR 21315 | 120-04-1914.
5-40-2680 | Permits | 4/17/95 | 4/21/00, 65 FR 21315 | 120-04-1915.
Article 20 Emission Standards for Feed Manufacturing Operations (Rule 4-20)
5-40-2690 | Applicability and Designation of Affected Facility | 4/17/95 | 4/21/00, 65 FR 21315 | 120-04-2001.
5-40-2700 | Definitions | 4/17/95 | 4/21/00, 65 FR 21315 | 120-04-2002.
5-40-2710 | Standard for Particulate Matter | 4/17/95 | 4/21/00, 65 FR 21315 | 120-04-2003.
5-40-2720 | Standard for Visible Emissions | 4/17/95 | 4/21/00, 65 FR 21315 | 120-04-2004.
5-40-2730 | Standard for Fugitive Dust/Emissions | 4/17/95 | 4/21/00, 65 FR 21315 | 120-04-2005.
5-40-2760 | Compliance | 4/17/95 | 4/21/00, 65 FR 21315 | 120-04-2008.
5-40-2770 | Test Methods and Procedures | 4/17/95 | 4/21/00, 65 FR 21315 | 120-04-2009.
5-40-2780 | Monitoring | 4/17/95 | 4/21/00, 65 FR 21315 | 120-04-2010.
5-40-2790 | Notification, Records and Reporting | 4/17/95 | 4/21/00, 65 FR 21315 | 120-04-2011.
5-40-2800 | Registration | 4/17/95 | 4/21/00, 65 FR 21315 | 120-04-2012.
5-40-2810 | Facility and Control Equipment Maintenance or Malfunction | 4/17/95 | 4/21/00, 65 FR 21315 | 120-04-2013.
5-40-2820 | Permits | 4/17/95 | 4/21/00, 65 FR 21315 | 120-04-2014.
Article 21 Emission Standards for Sulfuric Acid Production Plants (Rule 4-21)
5-40-2830 | Applicability and Designation of Affected Facility | 4/17/95 | 4/21/00, 65 FR 21315 | 120-04-2101.
5-40-2840 | Definitions | 4/17/95 | 4/21/00, 65 FR 21315 | 120-04-2102.
5-40-2850 | Standard for Sulfur Dioxide | 4/17/95 | 4/21/00, 65 FR 21315 | 120-04-2103.
5-40-2870 | Standard for Visible Emissions | 4/17/95 | 4/21/00, 65 FR 21315 | 120-04-2105.
5-40-2880 | Standard for Fugitive Dust/Emissions | 4/17/95 | 4/21/00, 65 FR 21315 | 120-04-2106.
5-40-2910 | Compliance | 4/17/95 | 4/21/00, 65 FR 21315 | 120-04-2109.
5-40-2920 | Test Methods and Procedures | 4/17/95 | 4/21/00, 65 FR 21315 | 120-04-2110.
5-40-2930 | Monitoring | 2/1/02 | 3/3/06, 71 FR 10838
5-40-2940 | Notification, Records and Reporting | 4/17/95 | 4/21/00, 65 FR 21315 | 120-04-2112.
5-40-2950 | Registration | 4/17/95 | 4/21/00, 65 FR 21315 | 120-04-2113.
5-40-2960 | Facility and Control Equipment Maintenance or Malfunction | 4/17/95 | 4/21/00, 65 FR 21315 | 120-04-2114.
5-40-2970 | Permits | 4/17/95 | 4/21/00, 65 FR 21315 | 120-04-2115.
Article 22 Emission Standards for Sulfur Recovery Operations (Rule 4-22)
5-40-2980 | Applicability and Designation of Affected Facility | 4/17/95 | 4/21/00, 65 FR 21315 | 120-04-2201.
5-40-2990 | Definitions | 4/17/95 | 4/21/00, 65 FR 21315 | 120-04-2202.
5-40-3000 | Standard for Sulfur Dioxide | 4/17/95 | 4/21/00, 65 FR 21315 | 120-04-2203.
5-40-3010 | Standard for Visible Emissions | 4/17/95 | 4/21/00, 65 FR 21315 | 120-04-2204.
5-40-3020 | Standard for Fugitive Dust/Emissions | 4/17/95 | 4/21/00, 65 FR 21315 | 120-04-2205.
5-40-3050 | Compliance | 4/17/95 | 4/21/00, 65 FR 21315 | 120-04-2208.
5-40-3060 | Test Methods and Procedures | 4/17/95 | 4/21/00, 65 FR 21315 | 120-04-2209.
5-40-3070 | Monitoring | 4/17/95 | 4/21/00, 65 FR 21315 | 120-04-2210.
5-40-3080 | Notification, Records and Reporting | 4/17/95 | 4/21/00, 65 FR 21315 | 120-04-2211.
5-40-3090 | Registration | 4/17/95 | 4/21/00, 65 FR 21315 | 20-04-2212.
5-40-3100 | Facility and Control Equipment Maintenance or Malfunction | 4/17/95 | 4/21/00, 65 FR 21315 | 120-04-2213.
5-40-3110 | Permits | 4/17/95 | 4/21/00, 65 FR 21315 | 120-04-2214.
Article 23 Emission Standards for Nitric Acid Production Units (Rule 4-23)
5-40-3120 | Applicability and Designation of Affected Facility | 4/17/95 | 4/21/00, 65 FR 21315 | 120-04-2301.
5-40-3130 | Definitions | 4/17/95 | 4/21/00, 65 FR 21315 | 120-04-2302.
5-40-3140 | Standard for Nitrogen Oxides | 4/17/95 | 4/21/00, 65 FR 21315 | 120-04-2303.
5-40-3150 | Standard for Visible Emissions | 4/17/95 | 4/21/00, 65 FR 21315 | 120-04-2304.
5-40-3160 | Standard for Fugitive Dust/Emissions | 4/17/95 | 4/21/00, 65 FR 21315 | 120-04-2305.
5-40-3190 | Compliance | 4/17/95 | 4/21/00, 65 FR 21315 | 120-04-2308.
5-40-3200 | Test Methods and Procedures | 4/17/95 | 4/21/00, 65 FR 21315 | 120-04-2309.
5-40-3210 | Monitoring | 4/17/95 | 4/21/00, 65 FR 21315 | 120-04-2310.
5-40-3220 | Notification, Records and Reporting | 4/17/95 | 4/21/00, 65 FR 21315 | 120-04-2311.
5-40-3230 | Registration | 4/17/95 | 4/21/00, 65 FR 21315 | 120-04-2312.
5-40-3240 | Facility and Control Equipment Maintenance or Malfunction | 4/17/95 | 4/21/00, 65 FR 21315 | 120-04-2313.
5-40-3250 | Permits | 4/17/95 | 4/21/00, 65 FR 21315 | 120-04-2314.
Article 24 Emission Standards for Solvent Metal Cleaning Operations Using Non-Halogenated Solvents (Rule 4-24)
5-40-3260 | Applicability and Designation of Affected Facility | 3/24/04 | 5/17/05, 70 FR 28215
5-40-3270 | Definitions | 4/1/97 | 11/3/99, 64 FR 59635
5-40-3280 | Standard for Volatile Organic Compounds | 4/1/97 | 11/3/99, 64 FR 59635
5-40-3290 | Control Technology Guidelines | 4/1/97 | 11/3/99, 64 FR 59635
5-40-3300 | Standard for Visible Emissions | 4/1/97 | 11/3/99, 64 FR 59635
5-40-3310 | Standard for Fugitive Dust/Emissions | 4/1/97 | 11/3/99, 64 FR 59635
5-40-3340 | Compliance | 4/1/97 | 11/3/99, 64 FR 59635
5-40-3350 | Test Methods and Procedures | 4/1/97 | 11/3/99, 64 FR 59635
5-40-3360 | Monitoring | 4/1/97 | 11/3/99, 64 FR 59635
5-40-3370 | Notification, Records and Reporting | 4/1/97 | 11/3/99, 64 FR 59635
5-40-3380 | Registration | 4/1/97 | 11/3/99, 64 FR 59635
5-40-3390 | Facility and Control Equipment Maintenance or Malfunction | 4/1/97 | 11/3/99, 64 FR 59635
5-40-3400 | Permits | 4/1/97 | 11/3/99, 64 FR 59635
Article 25 Emission Standards for Volatile Organic Compound Storage and Transfer Operations (Rule 4-25)
5-40-3410 | Applicability and Designation of Affected Facility | 4/17/95 | 4/21/00, 65 FR 21315 | 120-04-2501.
5-40-3420 | Definitions | 4/17/95 | 4/21/00, 65 FR 21315 | 120-04-2502.
5-40-3430 | Standard for Volatile Organic Compounds | 4/17/95 | 4/21/00, 65 FR 21315 | 120-04-2503.
5-40-3440 | Control Technology Guidelines | 4/17/95 | 4/21/00, 65 FR 21315 | 120-04-2504.
5-40-3450 | Standard for Visible Emissions | 4/17/95 | 4/21/00, 65 FR 21315 | 120-04-2505.
5-40-3460 | Standard for Fugitive Dust/Emissions | 4/17/95 | 4/21/00, 65 FR 21315 | 120-04-2506.
5-40-3490 | Compliance | 4/17/95 | 4/21/00, 65 FR 21315 | 120-04-2509.
5-40-3500 | Test Methods and Procedures | 4/17/95 | 4/21/00, 65 FR 21315 | 120-04-2510.
5-40-3510 | Monitoring | 4/17/95 | 4/21/00, 65 FR 21315 | 120-04-2511.
5-40-3520 | Notification, Records and Reporting | 4/17/95 | 4/21/00, 65 FR 21315 | 120-04-2512.
5-40-3530 | Registration | 4/17/95 | 4/21/00, 65 FR 21315 | 120-04-2513.
5-40-3540 | Facility and Control Equipment Maintenance or Malfunction | 4/17/95 | 4/21/00, 65 FR 21315 | 120-04-2514.
5-40-3550 | Permits | 4/17/95 | 4/21/00, 65 FR 21315 | 120-04-2515.
Article 26 Emission Standards for Large Coating Application Systems (Rule 4-26)
5-40-3560 | Applicability and Designation of Affected Facility | 4/17/95 | 4/21/00, 65 FR 21315 | 120-04-2601.
5-40-3570 | Definitions | 4/17/95 | 4/21/00, 65 FR 21315 | 120-04-2602.
5-40-3580 | Standard for Volatile Organic Compounds | 4/17/95 | 4/21/00, 65 FR 21315 | 120-04-2603.
5-40-3590 | Control Technology Guidelines | 4/17/95 | 4/21/00, 65 FR 21315 | 120-04-2604.
5-40-3600 | Standard for Visible Emissions | 4/17/95 | 4/21/00, 65 FR 21315 | 120-04-2605.
5-40-3610 | Standard for Fugitive Dust/Emissions | 4/17/95 | 4/21/00, 65 FR 21315 | 120-04-2606.
5-40-3640 | Compliance | 4/17/95 | 4/21/00, 65 FR 21315 | 120-04-2609.
5-40-3650 | Test Methods and Procedures | 4/17/95 | 4/21/00, 65 FR 21315 | 120-04-2610.
5-40-3660 | Monitoring | 4/17/95 | 4/21/00, 65 FR 21315 | 120-04-2611.
5-40-3670 | Notification, Records and Reporting | 4/17/95 | 4/21/00, 65 FR 21315 | 120-04-2612.
5-40-3680 | Registration | 4/17/95 | 4/21/00, 65 FR 21315 | 120-04-2613.
5-40-3690 | Facility and Control Equipment Maintenance or Malfunction | 4/17/95 | 4/21/00, 65 FR 21315 | 120-04-2614.
5-40-3700 | Permits | 4/17/95 | 4/21/00, 65 FR 21315 | 120-04-2615.
Article 27 Emission Standards for Magnet Wire Coating Application Systems (Rule 4-27)
5-40-3710 | Applicability and Designation of Affected Facility | 4/17/95 | 4/21/00, 65 FR 21315 | 120-04-2701.
5-40-3720 | Definitions | 4/17/95 | 4/21/00, 65 FR 21315 | 120-04-2702.
5-40-3730 | Standard for Volatile Organic Compounds | 4/17/95 | 4/21/00, 65 FR 21315 | 120-04-2703.
5-40-3740 | Control Technology Guidelines | 4/17/95 | 4/21/00, 65 FR 21315 | 120-04-2704.
5-40-3750 | Standard for Visible Emissions | 4/17/95 | 4/21/00, 65 FR 21315 | 120-04-2705.
5-40-3760 | Standard for Fugitive Dust/Emissions | 4/17/95 | 4/21/00, 65 FR 21315 | 120-04-2706.
5-40-3790 | Compliance | 4/17/95 | 4/21/00, 65 FR 21315 | 120-04-2709.
5-40-3800 | Test Methods and Procedures | 4/17/95 | 4/21/00, 65 FR 21315 | 120-04-2710.
5-40-3810 | Monitoring | 4/17/95 | 4/21/00, 65 FR 21315 | 120-04-2711.
5-40-3820 | Notification, Records and Reporting | 4/17/95 | 4/21/00, 65 FR 21315 | 120-04-2712.
5-40-3830 | Registration | 4/17/95 | 4/21/00, 65 FR 21315 | 120-04-2713.
5-40-3840 | Facility and Control Equipment Maintenance or Malfunction | 4/17/95 | 4/21/00, 65 FR 21315 | 120-04-2714.
5-40-3850 | Permits | 4/17/95 | 4/21/00, 65 FR 21315 | 120-04-2715.
Article 28 Emission Standards for Automobile and Light Duty Truck Coating Application Systems (Rule 4-28)
5-40-3860 | Applicability and Designation of Affected Facility | 4/17/95 | 4/21/00, 65 FR 21315 | 120-04-2801.
5-40-3870 | Definitions | 4/17/95 | 4/21/00, 65 FR 21315 | 120-04-2802.
5-40-3880 | Standard for Volatile Organic Compounds | 4/17/95 | 4/21/00, 65 FR 21315 | 120-04-2803.
5-40-3890 | Control Technology Guidelines | 4/17/95 | 4/21/00, 65 FR 21315 | 120-04-2804.
5-40-3900 | Standard for Visible Emissions | 4/17/95 | 4/21/00, 65 FR 21315 | 120-04-2805.
5-40-3910 | Standard for Fugitive Dust/Emissions | 4/17/95 | 4/21/00, 65 FR 21315 | 120-04-2806.
5-40-3940 | Compliance | 4/17/95 | 4/21/00, 65 FR 21315 | 120-04-2809.
5-40-3950 | Test Methods and Procedures | 4/17/95 | 4/21/00, 65 FR 21315 | 120-04-2810.
5-40-3960 | Monitoring | 4/17/95 | 4/21/00, 65 FR 21315 | 120-04-2811.
5-40-3970 | Notification, Records and Reporting | 4/17/95 | 4/21/00, 65 FR 21315 | 120-04-2812.
5-40-3980 | Registration | 4/17/95 | 4/21/00, 65 FR 21315 | 120-04-2813.
5-40-3990 | Facility and Control Equipment Maintenance or Malfunction | 4/17/95 | 4/21/00, 65 FR 21315 | 120-04-2814.
5-40-4000 | Permits | 4/17/95 | 4/21/00, 65 FR 21315 | 120-04-2815.
Article 29 Emission Standards for Can Coating Application Systems (Rule 4-29)
5-40-4010 | Applicability and Designation of Affected Facility | 4/17/95 | 4/21/00, 65 FR 21315 | 120-04-2901.
5-40-4020 | Definitions | 4/17/95 | 4/21/00, 65 FR 21315 | 120-04-2902.
5-40-4030 | Standard for Volatile Organic Compounds | 4/17/95 | 4/21/00, 65 FR 21315 | 120-04-2903.
5-40-4040 | Control Technology Guidelines | 4/17/95 | 4/21/00, 65 FR 21315 | 120-04-2904.
5-40-4050 | Standard for Visible Emissions | 4/17/95 | 4/21/00, 65 FR 21315 | 120-04-2905.
5-40-4060 | Standard for Fugitive Dust/Emissions | 4/17/95 | 4/21/00, 65 FR 21315 | 120-04-2906.
5-40-4090 | Compliance | 4/17/95 | 4/21/00, 65 FR 21315 | 120-04-2909.
5-40-4100 | Test Methods and Procedures | 4/17/95 | 4/21/00, 65 FR 21315 | 120-04-2910.
5-40-4110 | Monitoring | 4/17/95 | 4/21/00, 65 FR 21315 | 120-04-2911.
5-40-4120 | Notification, Records and Reporting | 4/17/95 | 4/21/00, 65 FR 21315 | 120-04-2912.
5-40-4130 | Registration | 4/17/95 | 4/21/00, 65 FR 21315 | 120-04-2913.
5-40-4140 | Facility and Control Equipment Maintenance or Malfunction | 4/17/95 | 4/21/00, 65 FR 21315 | 120-04-2914.
5-40-4150 | Permits | 4/17/95 | 4/21/00, 65 FR 21315 | 120-04-2915.
Article 30 Emission Standards for Metal Coil Coating Application Systems (Rule 4-30)
5-40-4160 | Applicability and Designation of Affected Facility | 4/17/95 | 4/21/00, 65 FR 21315 | 120-04-3001.
5-40-4170 | Definitions | 4/17/95 | 4/21/00, 65 FR 21315 | 120-04-3002.
5-40-4180 | Standard for Volatile Organic Compounds | 4/17/95 | 4/21/00, 65 FR 21315 | 120-04-3003.
5-40-4190 | Control Technology Guidelines | 4/17/95 | 4/21/00, 65 FR 21315 | 120-04-3004.
5-40-4200 | Standard for Visible Emissions | 4/17/95 | 4/21/00, 65 FR 21315 | 120-04-3005.
5-40-4210 | Standard for Fugitive Dust/Emissions | 4/17/95 | 4/21/00, 65 FR 21315 | 120-04-3006.
5-40-4240 | Compliance | 4/17/95 | 4/21/00, 65 FR 21315 | 120-04-3009.
5-40-4250 | Test Methods and Procedures | 4/17/95 | 4/21/00, 65 FR 21315 | 120-04-3010.
5-40-4260 | Monitoring | 4/17/95 | 4/21/00, 65 FR 21315 | 120-04-3011.
5-40-4270 | Notification, Records and Reporting | 4/17/95 | 4/21/00, 65 FR 21315 | 120-04-3012.
5-40-4280 | Registration | 4/17/95 | 4/21/00, 65 FR 21315 | 120-04-3013.
5-40-4290 | Facility and Control Equipment Maintenance or Malfunction | 4/17/95 | 4/21/00, 65 FR 21315 | 120-04-3014.
5-40-4300 | Permits | 4/17/95 | 4/21/00, 65 FR 21315 | 120-04-3015.
Article 31 Emission Standards for Paper and Fabric Coating Application Systems (Rule 4-31)
5-40-4310 | Applicability and Designation of Affected Facility | 4/17/95 | 4/21/00, 65 FR 21315 | 120-04-3101.
5-40-4320 | Definitions | 4/17/95 | 4/21/00, 65 FR 21315 | 120-04-3102.
5-40-4330 | Standard for Volatile Organic Compounds | 4/17/95 | 4/21/00, 65 FR 21315 | 120-04-3103.
5-40-4340 | Control Technology Guidelines | 4/17/95 | 4/21/00, 65 FR 21315 | 120-04-3104.
5-40-4350 | Standard for Visible Emissions | 4/17/95 | 4/21/00, 65 FR 21315 | 120-04-3105.
5-40-4360 | Standard for Fugitive Dust/Emissions | 4/17/95 | 4/21/00, 65 FR 21315 | 120-04-3106.
5-40-4390 | Compliance | 4/17/95 | 4/21/00, 65 FR 21315 | 120-04-3109.
5-40-4400 | Test Methods and Procedures | 4/17/95 | 4/21/00, 65 FR 21315 | 120-04-3110.
5-40-4410 | Monitoring | 4/17/95 | 4/21/00, 65 FR 21315 | 120-04-3111.
5-40-4420 | Notification, Records and Reporting | 4/17/95 | 4/21/00, 65 FR 21315 | 120-04-3112.
5-40-4430 | Registration | 4/17/95 | 4/21/00, 65 FR 21315 | 120-04-3113.
5-40-4440 | Facility and Control Equipment Maintenance or Malfunction | 4/17/95 | 4/21/00, 65 FR 21315 | 120-04-3114.
5-40-4450 | Permits | 4/17/95 | 4/21/00, 65 FR 21315 | 120-04-3115.
Article 32 Emission Standards for Vinyl Coating Application Systems (Rule 4-32)
5-40-4460 | Applicability and Designation of Affected Facility | 4/17/95 | 4/21/00, 65 FR 21315 | 120-04-3201.
5-40-4470 | Definitions | 4/17/95 | 4/21/00, 65 FR 21315 | 120-04-3202.
5-40-4480 | Standard for Volatile Organic Compounds | 4/17/95 | 4/21/00, 65 FR 21315 | 120-04-3203.
5-40-4490 | Control Technology Guidelines | 4/17/95 | 4/21/00, 65 FR 21315 | 120-04-3204.
5-40-4500 | Standard for Visible Emissions | 4/17/95 | 4/21/00, 65 FR 21315 | 120-04-3205.
5-40-4510 | Standard for Fugitive Dust/Emissions | 4/17/95 | 4/21/00, 65 FR 21315 | 120-04-3206.
5-40-4540 | Compliance | 4/17/95 | 4/21/00, 65 FR 21315 | 120-04-3209.
5-40-4550 | Test Methods and Procedures | 4/17/95 | 4/21/00, 65 FR 21315 | 120-04-3210.
5-40-4560 | Monitoring | 4/17/95 | 4/21/00, 65 FR 21315 | 120-04-3211.
5-40-4570 | Notification, Records and Reporting | 4/17/95 | 4/21/00, 65 FR 21315 | 120-04-3212.
5-40-4580 | Registration | 4/17/95 | 4/21/00, 65 FR 21315 | 120-04-3213.
5-40-4590 | Facility and Control Equipment Maintenance or Malfunction | 4/17/95 | 4/21/00, 65 FR 21315 | 120-04-3214.
5-40-4600 | Permits | 4/17/95 | 4/21/00, 65 FR 21315 | 120-04-3215.
Article 33 Emission Standards for Metal Furniture Coating Application Systems (Rule 4-33)
5-40-4610 | Applicability and Designation of Affected Facility | 4/17/95 | 4/21/00, 65 FR 21315 | 120-04-3301.
5-40-4620 | Definitions | 4/17/95 | 4/21/00, 65 FR 21315 | 120-04-3302.
5-40-4630 | Standard for Volatile Organic Compounds | 4/17/95 | 4/21/00, 65 FR 21315 | 120-04-3303.
5-40-4640 | Control Technology Guidelines | 4/17/95 | 4/21/00, 65 FR 21315 | 120-04-3304.
5-40-4650 | Standard for Visible Emissions | 4/17/95 | 4/21/00, 65 FR 21315 | 120-04-3305.
5-40-4660 | Standard for Fugitive Dust/Emissions | 4/17/95 | 4/21/00, 65 FR 21315 | 120-04-3306.
5-40-4690 | Compliance | 4/17/95 | 4/21/00, 65 FR 21315 | 120-04-3309.
5-40-4700 | Test Methods and Procedures | 4/17/95 | 4/21/00, 65 FR 21315 | 120-04-3310.
5-40-4710 | Monitoring | 4/17/95 | 4/21/00, 65 FR 21315 | 120-04-3311.
5-40-4720 | Notification, Records and Reporting | 4/17/95 | 4/21/00, 65 FR 21315 | 120-04-3312.
5-40-4730 | Registration | 4/17/95 | 4/21/00, 65 FR 21315 | 120-04-3313.
5-40-4740 | Facility and Control Equipment Maintenance or Malfunction | 4/17/95 | 4/21/00, 65 FR 21315 | 120-04-3314.
5-40-4750 | Permits | 4/17/95 | 4/21/00, 65 FR 21315 | 120-04-3315.
Article 34 Emission Standards for Miscellaneous Metal Parts and Products Coating Application Systems (Rule 4-34)
5-40-4760 | Applicability and Designation of Affected Facility | 4/17/95 | 4/21/00, 65 FR 21315 | 120-04-3401.
5-40-4770 | Definitions | 4/17/95 | 4/21/00, 65 FR 21315 | 120-04-3402.
5-40-4780 | Standard for Volatile Organic Compounds | 4/17/95 | 4/21/00, 65 FR 21315 | 120-04-3403.
5-40-4790 | Control Technology Guidelines | 4/17/95 | 4/21/00, 65 FR 21315 | 120-04-3404.
5-40-4800 | Standard for Visible Emissions | 4/17/95 | 4/21/00, 65 FR 21315 | 120-04-3405.
5-40-4810 | Standard for Fugitive Dust/Emissions | 4/17/95 | 4/21/00, 65 FR 21315 | 120-04-3406.
5-40-4840 | Compliance | 4/17/95 | 4/21/00, 65 FR 21315 | 120-04-3409.
5-40-4850 | Test Methods and Procedures | 4/17/95 | 4/21/00, 65 FR 21315 | 120-04-3410.
5-40-4860 | Monitoring | 4/17/95 | 4/21/00, 65 FR 21315 | 120-04-3411.
5-40-4870 | Notification, Records and Reporting | 4/17/95 | 4/21/00, 65 FR 21315 | 120-04-3412.
5-40-4880 | Registration | 4/17/95 | 4/21/00, 65 FR 21315 | 120-04-3413.
5-40-4890 | Facility and Control Equipment Maintenance or Malfunction | 4/17/95 | 4/21/00, 65 FR 21315 | 120-04-3414.
5-40-4900 | Permits | 4/17/95 | 4/21/00, 65 FR 21315 | 120-04-3415.
Article 35 Emission Standards for Flatwood Paneling Coating Application Systems (Rule 4-35)
5-40-4910 | Applicability and Designation of Affected Facility | 4/17/95 | 4/21/00, 65 FR 21315 | 120-04-3501.
5-40-4920 | Definitions | 4/17/95 | 4/21/00, 65 FR 21315 | 120-04-3502.
5-40-4930 | Standard for Volatile Organic Compounds | 4/17/95 | 4/21/00, 65 FR 21315 | 120-04-3503.
5-40-4940 | Control Technology Guidelines | 4/17/95 | 4/21/00, 65 FR 21315 | 120-04-3504.
5-40-4950 | Standard for Visible Emissions | 4/17/95 | 4/21/00, 65 FR 21315 | 120-04-3505.
5-40-4960 | Standard for Fugitive Dust/Emissions | 4/17/95 | 4/21/00, 65 FR 21315 | 120-04-3506.
5-40-4990 | Compliance | 4/17/95 | 4/21/00, 65 FR 21315 | 120-04-3509.
5-40-5000 | Test Methods and Procedures | 4/17/95 | 4/21/00, 65 FR 21315 | 120-04-3510.
5-40-5010 | Monitoring | 4/17/95 | 4/21/00, 65 FR 21315 | 120-04-3511.
5-40-5020 | Notification, Records and Reporting | 4/17/95 | 4/21/00, 65 FR 21315 | 120-04-3512.
5-40-5030 | Registration | 4/17/95 | 4/21/00, 65 FR 21315 | 120-04-3513.
5-40-5040 | Facility and Control Equipment Maintenance or Malfunction | 4/17/95 | 4/21/00, 65 FR 21315 | 120-04-3514.
5-40-5050 | Permits | 4/17/95 | 4/21/00, 65 FR 21315 | 120-04-3515.
Article 36 Flexographic, Packaging Rotogravure, and Publication Rotogravure Printing Lines (Rule 4-36)
5-40-5060 | Applicability and Designation of Affected Facility | 4/1/96 10/4/06 | 3/2/07, 72 FR 9441
5-40-5070 | Definitions | 4/1/96 | 3/12/97, 62 FR 11334 | § 52.2465(c)(113)(i)(B)(4).
5-40-5080 | Standard for Volatile Organic Compounds | 4/1/96 | 3/12/97, 62 FR 11334
5-40-5090 | Standard for Visible Emissions | 4/1/96 | 3/12/97, 62 FR 11334
5-40-5100 | Standard for Fugitive Dust/Emissions | 4/1/96 | 3/12/97, 62 FR 11334
5-40-5130 | Compliance | 4/1/96 | 3/12/97, 62 FR 11334
5-40-5140 | Test Methods and Procedures | 4/1/96 | 3/12/97, 62 FR 11334
5-40-5150 | Monitoring | 4/1/96 | 3/12/97, 62 FR 11334
5-40-5160 | Notification, Records and Reporting | 4/1/96 | 3/12/97, 62 FR 11334
5-40-5170 | Registration | 4/1/96 | 3/12/97, 62 FR 11334
5-40-5180 | Facility and Control Equipment Maintenance or Malfunction | 4/1/96 | 3/12/97, 62 FR 11334
5-40-5190 | Permits | 4/1/96 | 3/12/97, 62 FR 11334
Article 37 Emission Standards for Petroleum Liquid Storage and Transfer Operations (Rule 4-37)
5-40-5200 | Applicability and Designation of Affected Facility | 4/1/96 10/4/06 | 3/2/07, 72 FR 9441
5-40-5210 | Definitions | 2/1/02 | 3/3/06, 71 FR 10838
5-40-5220 | Standard for Volatile Organic Compounds | 3/24/04 | 4/27/05, 70 FR 21625
5-40-5230 | Control Technology Guidelines | 2/1/02 | 3/3/06, 71 FR 10838
5-40-5240 | Standard for Visible Emissions | 4/17/95 | 4/21/00, 65 FR 21315 | 120-04-3705.
5-40-5250 | Standard for Fugitive Dust/Emissions | 4/17/95 | 4/21/00, 65 FR 21315 | 120-04-3706.
5-40-5280 | Compliance | 4/17/95 | 4/21/00, 65 FR 21315 | 120-04-3709.
5-40-5290 | Test Methods and Procedures | 4/17/95 | 4/21/00, 65 FR 21315 | 120-04-3710.
5-40-5300 | Monitoring | 4/17/95 | 4/21/00, 65 FR 21315 | 120-04-3711.
5-40-5310 | Notification, Records and Reporting | 4/17/95 | 4/21/00, 65 FR 21315 | 120-04-3712.
5-40-5320 | Registration | 4/17/95 | 4/21/00, 65 FR 21315 | 120-04-3713.
5-40-5330 | Facility and Control Equipment Maintenance or Malfunction | 4/17/95 | 4/21/00, 65 FR 21315 | 120-04-3714.
5-40-5340 | Permits | 4/17/95 | 4/21/00, 65 FR 21315 | 120-04-3715.
Article 39 Emission Standards for Asphalt Paving Operations (Rule 4-39)
5-40-5490 | Applicability and Designation of Affected Facility | 4/17/95 | 4/21/00, 65 FR 21315 | 120-04-3901.
5-40-5500 | Definitions | 4/17/95 | 4/21/00, 65 FR 21315 | 120-04-3902.
5-40-5510 | Standard for Volatile Organic Compounds | 4/17/95 | 4/21/00, 65 FR 21315 | 120-04-3903.
5-40-5520 | Standard for Visible Emissions | 4/17/95 | 4/21/00, 65 FR 21315 | 120-04-3904.
5-40-5530 | Standard for Fugitive Dust/Emissions | 4/17/95 | 4/21/00, 65 FR 21315 | 120-04-3905.
5-40-5560 | Compliance | 4/17/95 | 4/21/00, 65 FR 21315 | 120-04-3908.
5-40-5570 | Test Methods and Procedures | 4/17/95 | 4/21/00, 65 FR 21315 | 120-04-3909.
5-40-5580 | Monitoring | 4/17/95 | 4/21/00, 65 FR 21315 | 120-04-3910.
5-40-5590 | Notification, Records and Reporting | 4/17/95 | 4/21/00, 65 FR 21315 | 120-04-3911.
Article 40 Emission Standards for Open Burning (Rule 4-40)
5-40-5600 | Applicability | 10/18/06 | 3/19/09, 74 FR 11661 | Provisions of Article 40 expanded to new localities in the emissions control areas.
5-40-5610 | Definitions | 10/18/06 | 3/19/09, 74 FR 11661 | Terms added: Air curtain incinerator, Clean lumber, Wood waste, and Yard waste.
|  |  |  | Terms revised: Clean burning waste, Clean wood, Commercial waste, Construction waste, Debris waste, Demolition waste, Garbage, Hazardous waste, Household waste, Industrial waste, Junkyard, Open burning, Open pit incinerator, Refuse, Sanitary landfill, and Special incineration device.
5-40-5610 | All definitions not listed above | 4/17/95 | 4/21/00, 65 FR 21315 | 120-04-4002.
5-40-5620 | Open burning prohibitions | 10/18/06 | 3/19/09, 74 FR 11661
5-40-5630 | Permissible open burning | 10/18/06 | 3/19/09, 74 FR 11661
5-40-5631 | Forest Management and Agricultural Practices | 7/1/97 | 3/12/97, 62 FR 11332 | Former Appendix D, effective 4/1/96.
Article 41 Emission Standards for Mobile Sources (Rule 4-41)
5-40-5650 | Applicability and Designation of Affected Facility | 4/17/95 | 4/21/00, 65 FR 21315 | 120-04-4101.
5-40-5660 | Definitions | 4/17/95 | 4/21/00, 65 FR 21315 | 120-04-4102.
5-40-5670 | Motor Vehicles | 4/17/95 | 4/21/00, 65 FR 21315 | 120-04-4103.
5-40-5680 | Other Mobile Sources | 4/17/95 | 4/21/00, 65 FR 21315 | 120-04-4104.
5-40-5690 | Export/Import of Motor Vehicles | 4/17/95 | 4/21/00, 65 FR 21315 | 120-04-4105.
Article 42 Emissions Standards for Portable Fuel ContainerSpillage (Rule 4-42)
5-40-5700 | Applicability | 3/24/04 | 6/8/04, 69 FR 31893
5-40-5700 | Applicability and designation of affected facility | 10/4/06 | 12/5/07, 72 FR 68511 | Revision extends the applicability to include the Fredericksburg VOC Emissions Control Area.
5-40-5710 | Definitions | 3/24/04 | 6/8/04, 69 FR 31893
5-40-5720 | Standard for volatile organic compounds | 10/4/06 | 12/5/07, 72 FR 68511
5-40-5730 | Administrative requirements | 3/24/04 | 6/8/04, 69 FR 31893
5-40-5740 | Compliance | 3/24/04 | 6/8/04, 69 FR 31893
5-40-5750 | Compliance schedules | 10/4/06 | 12/5/07, 72 FR 68511
5-40-5760 | Test methods and procedures | 3/24/04 | 6/8/04, 69 FR 31893
5-40-5770 | Notification, records and reporting | 3/24/04 | 6/8/04, 69 FR 31893
Article 43 Municipal Solid Waste Landfills (Rule 4-43)
5-40-5800 | Applicability and Designation of Affected Facility | 1/29/04 | 12/29/04, 69 FR 77900
5-40-5810 | Definitions | 1/29/04 | 12/29/04, 69 FR 77900
5-40-5820 | Standards for Air Emissions | 1/29/04 | 12/29/04, 69 FR 77900
5-40-5822 | Operational standards for collection and control systems | 1/29/04 | 12/29/04, 69 FR 77900
5-40-5824 | Specifications for active collection systems | 1/29/04 | 12/29/04, 69 FR 77900
5-40-5850 | Compliance | 1/29/04 | 12/29/04, 69 FR 77900
5-40-5855 | Compliance schedule | 1/29/04 | 12/29/04, 69 FR 77900
5-40-5860 | Test methods and procedures | 1/29/04 | 12/29/04, 69 FR 77900
5-40-5870 | Monitoring | 1/29/04 | 12/29/04, 69 FR 77900
5-40-5880 | Reporting | 1/29/04 | 12/29/04, 69 FR 77900
5-40-5890 | Recordkeeping | 1/29/04 | 12/29/04, 69 FR 77900
5-40-5900 | Registration | 1/29/04 | 12/29/04, 69 FR 77900
5-40-5910 | Facility and control equipment Maintenance or Malfunction | 1/29/04 | 12/29/04, 69 FR 77900
5-40-5920 | Permits | 1/29/04 | 12/29/04, 69 FR 77900
Article 47 Emission Standards for Solvent Metal Cleaning Operations in the Northern Virginia Volatile Organic Compound Emissions Control Area (Rule 4-47)
5-40-6820 | Applicability | 3/24/04 | 6/9/04, 69 FR 32277
5-40-6830 | Definitions | 3/24/04 | 6/9/04, 69 FR 32277
5-40-6840 | Standards for volatile organic compounds | 3/24/04 | 6/9/04, 69 FR 32277
5-40-6850 | Standard for visible emissions | 3/24/04 | 6/9/04, 69 FR 32277
5-40-6860 | Standard for fugitive dust/emissions | 3/24/04 | 6/9/04, 69 FR 32277
5-40-6890 | Compliance | 3/24/04 | 6/9/04, 69 FR 32277
5-40-6900 | Compliance schedules | 3/24/04 | 6/9/04, 69 FR 32277
5-40-6910 | Test methods and procedures | 3/24/04 | 6/9/04, 69 FR 32277
5-40-6920 | Monitoring | 3/24/04 | 6/9/04, 69 FR 32277
5-40-6930 | Notification, records and reporting | 3/24/04 | 6/9/04, 69 FR 32277
5-40-6940 | Registration | 3/24/04 | 6/9/04, 69 FR 32277
5-40-6950 | Facility and control equipment Maintenance or Malfunction | 3/24/04 | 6/9/04, 69 FR 32277
5-40-6960 | Permits | 3/24/04 | 6/9/04, 69 FR 32277
Article 48 Emission Standards for Mobile Equipment Repairand Refinishing (Rule 4-48)
5-40-6970 | Applicability and designation of affected facility | 10/4/06 | 12/5/07, 72 FR 68511 | Revision extends the applicability to include the Fredericksburg VOC Emissions Control Area.
5-40-6980 | Definitions | 3/24/04 | 6/24/04, 69 FR 35253
5-40-6990 | Standards for volatile organic compounds | 3/24/04 | 6/24/04, 69 FR 35253
5-40-7000 | Standard for visible emissions | 3/24/04 | 6/24/04, 69 FR 35253
5-40-7010 | Standard for fugitive dust/emissions | 3/24/04 | 6/24/04, 69 FR 35253
5-40-7040 | Compliance | 3/24/04 | 6/24/04, 69 FR 35253
5-40-7050 | Compliance schedule | 10/4/06 | 12/5/07, 72 FR 68511
5-40-7060 | Test methods and procedures | 3/24/04 | 6/24/04, 69 FR 35253
5-40-7070 | Monitoring | 3/24/04 | 6/24/0, 69 FR 35253
5-40-7080 | Notification, records and reporting | 3/24/04 | 6/24/04, 69 FR 35253
5-40-7090 | Registration | 3/24/04 | 6/24/04, 69 FR 35253
5-40-7100 | Facility and control equipment Maintenance or Malfunction | 3/24/04 | 6/24/04, 69 FR 35253
5-40-7110 | Permits | 3/24/04 | 6/24/04, 69 FR 35253
Article 49 Emission Standards for Architectural and Maintenance Coatings (Rule 4-49)
5-40-7120 | Applicability and designation of affected facility | 10/4/06 | 12/5/07, 72 FR 68511 | Revision extends the applicability to include the Fredericksburg VOC Emissions Control Area.
5-40-7130 | Definitions | 10/4/06 | 12/5/07, 72 FR 68511 | Revision adds definitions for the following: ASTM, Calcimine recoater, Concrete surface retarder, Conversion varnish, Impacted immersion coating, Nuclear coating, and Thermoplasatic rubber coating and mastic.
5-40-7140 | Standard for volatile organic compounds | 10/4/06 | 12/5/07, 72 FR 68511 | Revision adds standards for the following categories: Calcimine recoaters, Conversion varnishes, Concrete surface retarder, Impacted immersion coatings, Nuclear coatings, and Thermoplastic rubber coating and mastic.
5-40-7150 | Container Labeling Requirements | 3/24/04 | 5/12/05, 70 FR 24970
5-40-7160 | Standard for Visible Emissions | 3/24/04 | 5/12/05, 70 FR 24970
5-40-7170 | Standard for Fugitive Dust/Emissions | 3/24/04 | 5/12/05, 70 FR 24970
5-40-7200 | Compliance | 3/24/04 | 5/12/05, 70 FR 24970
5-40-7210 | Compliance schedules | 10/4/06 | 12/5/07, 72 FR 68511
5-40-7220 | Test Methods and Procedures | 3/24/04 | 5/12/05, 70 FR 24970
5-40-7230 | Notification, Records and Reporting | 3/24/04 | 5/12/05, 70 FR 24970
Article 50 Emission Standards for Consumer Products (Rule 4-50)
5-40-7240 | Applicability | 10/4/06 | 12/5/07, 72 FR 68511 | Revision extends the applicability to include the Fredericksburg VOC Emissions Control Area.
5-40-7250 | Exemptions | 10/4/06 | 12/5/07, 72 FR 68511
5-40-7260 | Definitions | 10/4/06 | 12/5/07, 72 FR 68511
5-40-7270 | Standard for volatile organic compounds | 10/4/06 | 12/5/07, 72 FR 68511
5-40-7280 | Alternative control plan (ACP) for consumer products | 3/9/05 | 1/30/07, 72 FR 4207
5-40-7290 | Innovative Products | 3/9/05 | 1/30/07, 72 FR 4207
5-40-7300 | Administrative requirements | 3/9/05 | 1/30/07, 72 FR 4207
5-40-7300 | Administrative requirements | 10/4/06 | 12/5/07, 72 FR 68511
5-40-7320 | Compliance | 3/9/05 | 1/30/07, 72 FR 4207
5-40-7330 | Compliance schedules | 10/4/06 | 12/5/07, 72 FR 68511
5-40-7340 | Test methods and procedures | 3/9/05 | 1/30/07, 72 FR 4207
5-40-7350 | Monitoring | 3/9/05 | 1/30/07, 72 FR 4207
5-40-7360 | Notification, records and reporting | 10/4/06 | 12/5/07, 72 FR 68511
Article 53 Emission Standards for Lithographic Printing Processes (Rule 4-53) [Formerly Article 45]
5-40-7800 | Applicability and designation of affected facility | 10/4/06 | 3/2/07, 72 FR 9441 | Revised to include and exempt certain emission control areas.
5-40-7810 | Definitions of alcohol, Cleaning solution, fountain solution, lithographic printing, printing process | 4/1/96 10/4/06 | 3/2/07, 72 FR 9441
5-40-7820 | Standard for Volatile Organic Compounds | 4/1/96 10/4/06 | 3/2/07, 72 FR 9441
5-40-7840 | Standard for Visible Emissions | 4/1/96 10/4/06 | 3/2/07, 72 FR 9441
5-40-7850 | Standard for Fugitive Dust Emissions | 4/1/96 10/4/06 | 3/2/07, 72 FR 9441
5-40-7880 | Compliance | 10/4/06 | 3/2/07, 72 FR 9441 | Revisions to compliance dates.
5-40-7890 | Test Methods and Procedures | 4/1/96 10/4/06 | 3/2/07, 72 FR 9441
5-40-7900 | Monitoring | 4/1/96 10/4/06 | 3/2/07, 72 FR 9441
5-40-7910 | Notification, Records and Reporting | 4/1/96 10/4/06 | 3/2/07, 72 FR 9441
5-40-7920 | Registration | 4/1/96 10/4/06 | 3/2/07, 72 FR 9441
5-40-7930 | Facility and Control Equipment Maintenance and Malfunction | 4/1/96 10/4/06 | 3/2/07, 72 FR 9441
5-40-7940 | Permits | 4/1/96 10/4/06 | 3/2/07, 72 FR 9441
9 VAC 5, Chapter 50 New and Modified Stationary Sources [Part V]
Part I Special Provisions
5-50-10 | Applicability | 8/1/02 | 3/15/04, 69 FR 12074
5-50-20 | Compliance | 8/1/02 | 3/15/04, 69 FR 12074
5-50-30 | Performance Testing | 8/1/02 | 3/15/04, 69 FR 12074
5-50-40 | Monitoring | 8/1/02 | 3/15/04, 69 FR 12074
5-50-50 | Notification, Records and Reporting | 8/1/02 | 3/15/04, 69 FR 12074
Part II Emission Standards
Article 1 Standards of Performance for Visible Emissions and Fugitive Dust/Emissions (Rule 5-1)
5-50-60 | Applicability and Designation of Affected Facility | 4/17/95 | 4/21/00, 65 FR 21315 | 120-05-0101.
5-50-70 | Definitions | 4/17/95 | 4/21/00, 65 FR 21315 | 120-05-0102.
5-50-80 | Standard for Visible Emissions | 4/17/95 | 4/21/00, 65 FR 21315 | 120-05-0103.
5-50-90 | Standard for Fugitive Dust/Emissions | 2/1/03 | 4/29/05, 70 FR 22263
5-50-100 | Monitoring | 4/17/95 | 4/21/00, 65 FR 21315 | 120-05-0105.
5-50-110 | Test Methods and Procedures | 4/17/95 | 4/21/00, 65 FR 21315 | 120-05-0106.
5-50-120 | Waivers | 2/1/03 | 4/29/05, 70 FR 22263
Article 4 Standards of Performance for Stationary Sources (Rule 5-4)
5-50-240 | Applicability and Designation of Affected Facility | 4/17/95 | 4/21/00, 65 FR 21315 | 120-05-0401.
5-50-250 | Definitions | 9/1/06 | 10/22/08, 73 FR 62897 | Revised definition of New Source Review Program, Limited Approval.
5-50-260 | Standard for Stationary Sources | 4/17/95 | 4/21/00, 65 FR 21315 | 120-05-0403.
5-50-270 | Standard for Major Stationary Sources (Nonattainment Areas) | 9/1/06 | 10/22/08, 73 FR 62893 | Changes Qualifying pollutant to Regulated NSR pollutant, Limited Approval.
5-50-280 | Standard for Major Stationary Sources (Prevention of Significant Deterioration Areas) | 9/1/06 | 10/22/08, 73 FR 62897 | Changes Pollutant subject to regulation under the Federal Clean Air Act to Regulated NSR pollutant, Limited Approval.
5-50-290 | Standard for Visible Emissions | 4/17/95 | 4/21/00, 65 FR 21315 | 120-05-0406.
5-50-300 | Standard for Fugitive Dust/Emissions | 4/17/95 | 4/21/00, 65 FR 21315 | 120-05-0407.
5-50-330 | Compliance | 4/17/95 | 4/21/00, 65 FR 21315 | 120-05-0410.
5-50-340 | Test Methods and Procedures | 4/17/95 | 4/21/00, 65 FR 21315 | 120-05-0411.
5-50-350 | Monitoring | 4/17/95 | 4/21/00, 65 FR 21315 | 120-05-0412.
5-50-360 | Notification, Records and Reporting | 4/17/95 | 4/21/00, 65 FR 21315 | 120-05-0413.
5-50-370 | Registration | 4/17/95 | 4/21/00, 65 FR 21315 | 120-05-0414.
5-50-380 | Facility and Control Equipment Maintenance or Malfunction | 4/17/95 | 4/21/00, 65 FR 21315 | 120-05-0415.
5-50-390 | Permits | 4/17/95 | 4/21/00, 65 FR 21315 | 120-05-0416.
9 VAC 5, Chapter 70 Air Pollution Episode Prevention [Part VII]
5-70-10 | Applicability | 4/17/95 | 4/21/00, 65 FR 21315 | 120-07-01.
5-70-20 | Definitions | 4/17/95 | 4/21/00, 65 FR 21315 | 120-07-02.
5-70-30 | General | 4/17/95 | 4/21/00, 65 FR 21315 | 120-07-03.
5-70-40 | Episode Determination | 4/1/99 | 10/19/0065 FR 62626 | References to TSP have been removed.
5-70-50 | Standby Emission Reduction Plans | 4/17/95 | 4/21/00, 65 FR 21315 | 120-07-05.
5-70-60 | Control Requirements | 4/17/95 | 4/21/00, 65 FR 21315 | 120-07-06.
5-70-70 | Local Air Pollution Control Agency Participation | 4/17/95 | 4/21/00, 65 FR 21315 | 120-07-07.
9 VAC 5, Chapter 80 Permits for Stationary Sources [Part VIII]
5-80-10 | New and Modified Stationary Sources | 4/17/95 | 4/21/00, 65 FR 21315 | 120-08-01.
10A | Applicability | 4/17/95 | 4/21/00, 65 FR 21315 | 01A.
10B | Definitions | 4/17/95 | 4/21/00, 65 FR 21315 | 01B.
10C (Exc.C1.b) | General | 4/17/95 | 4/21/00, 65 FR 21315 | 01C. (Exc.C.1.b)
10D | Applications | 4/17/95 | 4/21/00, 65 FR 21315 | 01D.
10E. | Information required | 4/17/95 | 4/21/00, 65 FR 21315 | 01E.
10F | Action on permit application | 4/17/95 | 4/21/00, 65 FR 21315 | 01F.
10G | Public participation | 4/17/95 | 4/21/00, 65 FR 21315 | 01G.; Exceptions: 10.G.1 and 10G.4.b.
VR120-08-01C.4.b., c | Public Participation—public hearing requirements for major modifications | 7/31/81; recodified 2/1/85 | 5/4/82, 47 FR 19134; recodified 2/25/93, 58 FR 11373 | See § 52.2423(o).
10H.2. and 10H.3 | Standards for granting permits | 4/17/95 | 4/21/00, 65 FR 21315 | 01H.2. and 01H.3.
10I.1. and 10I.3 | Application review and analysis | 4/17/95 | 4/21/00, 65 FR 21315 | 01I.1. and 01I.3.
10J | Compliance determination and verification by performance testing | 4/17/95 | 4/21/00, 65 FR 21315 | 01J.
10K | Permit invalidation, revocation and enforcement | 4/17/95 | 4/21/00, 65 FR 21315 | 01K.
10L | Existence of permit no defense | 4/17/95 | 4/21/00, 65 FR 21315 | 01L.
10M | Compliance with local zoning requirements | 4/17/95 | 4/21/00, 65 FR 21315 | 01M.
10N | Reactivation and permanent shutdown | 4/17/95 | 4/21/00, 65 FR 21315 | 01N.
10O | Transfer of permits | 4/17/95 | 4/21/00, 65 FR 21315 | 01O.
10P | Circumvention | 4/17/95 | 4/21/00, 65 FR 21315 | 01P.
5-80-11 | Stationary source permit exemption levels | 7/1/97 | 4/21/00, 65 FR 21315 | Appendix R.
Article 5 State Operating Permits
5-80-800 | Applicability | 4/1/98 | 6/27/03, 68 FR 38191
5-80-810 | Definitions | 4/1/98 | 6/27/03, 68 FR 38191
5-80-820 | General | 4/1/98 | 6/27/03, 68 FR 38191
5-80-830 | Applications | 4/1/98 | 6/27/03, 68 FR 38191
5-80-840 | Application information required | 4/1/98 | 6/27/03, 68 FR 38191
5-80-850 | Standards and conditions for granting Permits | 4/1/98 | 6/27/03, 68 FR 38191
5-80-860 | Action on permit application | 4/1/98 | 6/27/03, 68 FR 38191
5-80-870 | Application review and analysis | 4/1/98 | 6/27/03, 68 FR 38191
5-80-880 | Compliance determination and verification by testing | 4/1/98 | 6/27/03, 68 FR 38191
5-80-890 | Monitoring requirements | 4/1/98 | 6/27/03, 68 FR 38191
5-80-900 | Reporting requirements | 4/1/98 | 6/27/03, 68 FR 38191
5-80-910 | Existence of permits no defense | 4/1/98 | 6/27/03, 68 FR 38191
5-80-920 | Circumvention | 4/1/98 | 6/27/03, 68 FR 38191
5-80-930 | Compliance with local zoning requirements | 4/1/98 | 6/27/03, 68 FR 38191
5-80-940 | Transfer of Permits | 4/1/98 | 6/27/03, 68 FR 38191
5-80-950 | Termination of Permits | 4/1/98 | 6/27/03, 68 FR 38191
5-80-960 | Changes to Permits | 4/1/98 | 6/27/03, 68 FR 38191
5-80-970 | Administrative permit amendments | 4/1/98 | 6/27/03, 68 FR 38191
5-80-980 | Minor permit amendments | 4/1/98 | 6/27/03, 68 FR 38191
5-80-990 | Significant permit amendments | 4/1/98 | 6/27/03, 68 FR 38191
5-80-1000 | Reopening for cause | 4/1/98 | 6/27/03, 68 FR 38191
5-80-1010 | Enforcement | 4/1/98 | 6/27/03, 68 FR 38191
5-80-1020 | Public participation | 4/1/98 | 6/27/03, 68 FR 38191
5-80-1030 | General Permits | 4/1/98 | 6/27/03, 68 FR 38191
5-80-1040 | Review and evaluation of article | 4/1/98 | 6/27/03, 68 FR 38191
Article 8 Permits—Major Stationary Sources and Major Modifications Located in Prevention of Significant Deterioration Areas
5-80-1605 | Applicability | 9/1/06 | 10/22/08, 73 FR 62897 | 5-80-1700, Limited Approval.
5-80-1615 | Definitions | 9/1/06 | 10/22/08, 73 FR 62897 | 5-80-1710, Limited Approval.
5-80-1625 | General | 9/1/06 | 10/22/08, 73 FR 62897 | 5-80-1720, Limited Approval.
5-80-1635 | Ambient Air Increments | 9/1/06 | 10/22/08, 73 FR 62897 | 5-80-1730, Limited Approval.
5-80-1645 | Ambient Air Ceilings | 9/1/06 | 10/22/08, 73 FR 62897 | 5-80-1740, Limited Approval.
5-80-1655 | Applications | 9/1/06 | 10/22/08, 73 FR 62897 | 5-80-1750, Limited Approval.
5-80-1665 | Compliance with local zoning requirements | 9/1/06 | 10/22/08, 73 FR 62897 | 5-80-1760, Limited Approval.
5-80-1675 | Compliance determination and verification by performance testing | 9/1/06 | 10/22/08, 73 FR 62897 | 5-80-1770, Limited Approval.
5-80-1685 | Stack Heights | 9/1/06 | 10/22/08, 73 FR 62897 | 5-80-1780, Limited Approval.
5-80-1695 | Exemptions | 9/1/06 | 10/22/08, 73 FR 62897 | New, Limited Approval.
5-80-1705 | Control technology review | 9/1/06 | 10/22/08, 73 FR 62897 | 5-80-1800, Limited Approval.
5-80-1715 | Source impact analysis | 9/1/06 | 10/22/08, 73 FR 62897 | 5-80-1810 Limited Approval.
5-80-1725 | Air quality models | 9/1/06 | 10/22/08, 73 FR 62897 | 5-80-1820, Limited Approval.
5-80-1735 | Air quality analysis | 9/1/06 | 10/22/08, 73 FR 62897 | 5-80-1830, Limited Approval.
5-80-1745 | Source Information | 9/1/06 | 10/22/08, 73 FR 62897 | 5-80-1840, Limited Approval.
5-80-1755 | Additional impact analysis | 9/1/06 | 10/22/08, 73 FR 62897 | 5-80-1850, Limited Approval.
5-80-1765 | Sources affecting Federal class I areas—additional requirements | 9/1/06 | 10/22/08, 73 FR 62897 | 5-80-1860, Limited Approval.
5-80-1775 | Public participation | 9/1/06 | 10/22/08, 73 FR 62897 | 5-80-1870, Limited Approval.
5-80-1785 | Source obligation | 9/1/06 | 10/22/08, 73 FR 62897 | 5-80-1880, Limited Approval.
5-80-1795 | Environmental impact statements | 9/1/06 | 10/22/08, 73 FR 62897 | 5-80-1890, Limited Approval.
5-80-1805 | Disputed permits | 9/1/06 | 10/22/08, 73 FR 62897 | 5-80-1900, Limited Approval.
5-80-1815 | Interstate pollution abatement | 9/1/06 | 10/22/08, 73 FR 62897 | 5-80-1910, Limited Approval.
5-80-1825 | Innovative control technology | 9/1/06 | 10/22/08, 73 FR 62897 | 5-80-1920, Limited Approval.
5-80-1835 | Reserved | 9/1/06 | 10/22/08, 73 FR 62897 | New, Limited Approval.
5-80-1845 | Reserved | 9/1/06 | 10/22/08, 73 FR 62897 | New, Limited Approval.
5-80-1855 | Reserved | 9/1/06 | 10/22/08, 73 FR 62897 | New, Limited Approval.
5-80-1865 | Actuals plantwide applicability (PAL) | 9/1/06 | 10/22/08, 73 FR 62897 | New, Limited Approval.
5-80-1925 | Changes to permits | 9/1/06 | 10/22/08, 73 FR 62897 | New, Limited Approval.
5-80-1935 | Administrative permit amendments | 9/1/06 | 10/22/08, 73 FR 62897 | New, Limited Approval.
5-80-1945 | Minor permit amendments | 9/1/06 | 10/22/08, 73 FR 62897 | New, Limited Approval.
5-80-1955 | Significant amendment procedures | 9/1/06 | 10/22/08, 73 FR 62897 | New, Limited Approval.
5-80-1965 | Reopening for cause | 9/1/06 | 10/22/08, 73 FR 62897 | New, Limited Approval.
5-80-1975 | Transfer of permits | 9/1/06 | 10/22/08, 73 FR 62897 | 5-80-1940, Limited Approval.
5-80-1985 | Permit invalidation, revocation, and enforcement | 9/1/06 | 10/22/08, 73 FR 62897 | 5-80-1950, Limited Approval.
5-80-1995 | Existence of permit no defense | 9/1/06 | 10/22/08, 73 FR 62897 | New, Limited Approval.
Article 9 Permits—Major Stationary Sources and Major Modifications Located in Nonattainment Areas or the Ozone Transport Region
5-80-2000 | Applicability | 5/1/02 9/1/06 | 10/22/08, 73 FR 62893 | Limited Approval of 9/1/06 amendments.
5-80-2010 | Definitions | 5/1/02 9/1/06 | 10/22/08, 73 FR 62893 | Limited Approval of 9/1/06 amendments.
5-80-2020 | General | 5/1/02 9/1/06 | 10/22/08, 73 FR 62893 | Limited Approval of 9/1/06 amendments.
5-80-2030 | Applications | 5/1/02 9/1/06 | 10/22/08, 73 FR 62893 | Limited Approval of 9/1/06 amendments.
5-80-2040 | Application information required | 5/1/02 9/1/06 | 10/22/08, 73 FR 62893 | Limited Approval of 9/1/06 amendments.
5-80-2050 | Standards and conditions for granting permits | 5/1/02 9/1/06 | 10/22/08, 73 FR 62893 | Limited Approval of 9/1/06 amendments.
5-80-2060 | Action on permit applications | 5/1/02 9/1/06 | 10/22/08, 73 FR 62893 | Limited Approval of 9/1/06 amendments.
5-80-2070 | Public participation | 5/1/02 9/1/06 | 10/22/08, 73 FR 62893 | Limited Approval of 9/1/06 amendments.
5-80-2080 | Compliance determination and verification by performance testing | 5/1/02 9/1/06 | 10/22/08, 73 FR 62893 | Limited Approval of 9/1/06 amendments.
5-80-2090 | Application review and analysis | 5/1/02 9/1/06 | 10/22/08, 73 FR 62893 | Limited Approval of 9/1/06 amendments.
5-80-2091 | Source Obligation | 9/1/06 | 10/22/08, 73 FR 62893 | New, Limited Approval.
5-80-2110 | Interstate Pollution Abatement | 5/1/02 9/1/06 | 10/22/08, 73 FR 62893 | Limited Approval of 9/1/06 amendments.
5-80-2120 | Offsets | 5/1/02 9/1/06 | 10/22/08, 73 FR 62893 | Limited Approval of 9/1/06 amendments.
5-80-2130 | De minimis increases and stationary source modification alternatives for ozone nonattainment areas classified as serious or severe in 9 VAC 5-20-204 | 5/1/02 9/1/06 | 10/22/08, 73 FR 62893 | Limited Approval of 9/1/06 amendments.
5-80-2140 | Exception | 5/1/02 9/1/06 | 10/22/08, 73 FR 62893 | Limited Approval of 9/1/06 amendments.
5-80-2144 | Actuals plantwide applicability limits (PALs) | 9/1/06 | 10/22/08, 73 FR 62893 | New, Limited Approval.
5-80-2150 | Compliance with local zoning requirements | 5/1/02 9/1/06 | 10/22/08, 73 FR 62893 | Limited Approval of 9/1/06 amendments.
5-80-2170 | Transfer of permits | 5/1/02 9/1/06 | 10/22/08, 73 FR 62893 | Limited Approval of 9/1/06 amendments.
5-80-2180 | Permit invalidation, revocation and enforcement | 5/1/02 9/1/06 | 10/22/08, 73 FR 62893 | Limited Approval of 9/1/06 amendments.
5-80-2190 | Existence of permit no defense | 5/1/02 9/1/06 | 10/22/08, 73 FR 62893 | Limited Approval of 9/1/06 amendments.
5-80-2200 | Changes to permits | 5/1/02 9/1/06 | 10/22/08, 73 FR 62893 | New, Limited Approval of 9/1/06 amendments.
5-80-2210 | Administrative permit amendments | 5/1/02 9/1/06 | 10/22/08, 73 FR 62893 | New, Limited Approval of 9/1/06 amendments.
5-80-2220 | Minor permit amendments | 5/1/02 9/1/06 | 10/22/08, 73 FR 62893 | New, Limited Approval of 9/1/06 amendments.
5-80-2230 | Significant amendment procedures | 5/1/02 9/1/06 | 10/22/08, 73 FR 62893 | New, Limited Approval of 9/1/06 amendments.
5-80-2240 | Reopening for cause | 5/1/02 9/1/06 | 10/22/08, 73 FR 62893 | New, Limited Approval of 9/1/06 amendments.
9 VAC 5, Chapter 91 Regulations for the Control of Motor Vehicle Emissions in the Northern Virginia Area
| Part I Definitions
5-91-10 | General | 1/24/97 | 9/1/99, 64 FR 47670
5-91-20 | Terms defined | 1/24/97 | 9/1/99, 64 FR 47670 | Exception—“Northern Virginia program area” does not include Fauquier County, Effective 1/1/98.
|  | 6/29/05 | 4/22/08, 73 FR 21540
Part II General Provisions
5-91-30 | Applicability and authority of the department | 10/1/02 | 4/22/08, 73 FR 21540
5-91-40 | Establishment of Regulations and Orders | 1/24/97 | 9/1/99, 64 FR 47670
5-91-50 | Documents incorporated by reference | 10/1/02 | 4/22/08, 73 FR 21540
5-91-60 | Hearings and Proceedings | 1/24/97 | 9/1/99, 64 FR 47670
5-91-70 | Appeal of case decisions | 10/1/02 | 4/22/08, 73 FR 21540
5-91-80 | Variances | 1/24/97 | 9/1/99, 64 FR 47670
5-91-90 | Right of entry | 1/24/97 | 9/1/99, 64 FR 47670
5-91-100 | Conditions on approvals | 1/24/97 | 9/1/99, 64 FR 47670
5-91-110 | Procedural information and guidance | 1/24/97 | 9/1/99, 64 FR 47670
5-91-120 | Export and import of motor vehicles | 10/1/02 | 4/22/08, 73 FR 21540
5-91-130 | Relationship of state regulations to Federal regulations | 1/24/97 | 9/1/99, 64 FR 47670
5-91-140 | Delegation of authority | 1/24/97 | 9/1/99, 64 FR 47670
5-91-150 | Availability of information | 1/24/97 | 9/1/99, 64 FR 47670
Part III Emission Standards for Motor Vehicle Air Pollution
5-91-160 | Exhaust emission standards for two-speed idle testing in enhanced emissions inspection programs | 6/29/05 | 4/22/08, 73 FR 21540
5-91-170 | Exhaust emission standards for ASM testing in enhanced emissions inspection programs | 10/1/02 | 4/22/08, 73 FR 21540
5-91-180 | Exhaust emission standards for on-road testing through remote sensing | 6/29/05 | 4/22/08, 73 FR 21540
5-91-190 | Emissions control system standards | 10/1/02 | 4/22/08, 73 FR 21540
5-91-200 | Evaporative emissions standards | 10/1/02 | 4/22/08, 73 FR 21540
5-91-210 | Visible emissions standards | 10/1/02 | 4/22/08, 73 FR 21540
Part IV Permitting and Operation of Emissions Inspection Stations
5-91-220 | General provisions | 10/1/02 | 4/22/08, 73 FR 21540
5-91-230 | Applications | 10/1/02 | 4/22/08, 73 FR 21540
5-91-240 | Standards and conditions for permits | 1/27/97 | 9/1/99, 64 FR 47670
5-91-250 | Action on permit application | 1/27/97 | 9/1/99, 64 FR 47670
5-91-260 | Emissions inspection station permits, categories | 10/1/02 | 4/22/08, 73 FR 21540
5-91-270 | Permit renewals | 10/1/02 | 4/22/08, 73 FR 21540
5-91-280 | Permit revocation, surrender of materials | 1/24/97 | 9/1/99, 64 FR 47670
5-91-290 | Emissions inspection station operations | 10/1/02 | 4/22/08, 73 FR 21540
5-91-300 | Emissions inspection station records | 10/1/02 | 4/22/08, 73 FR 21540
5-91-310 | Sign and permit posting | 10/1/02 | 4/22/08, 73 FR 21540
5-91-320 | Equipment and facility requirements | 10/1/02 | 4/22/08, 73 FR 21540
5-91-330 | Analyzer system operation | 10/1/02 | 4/22/08, 73 FR 21540
5-91-340 | Motor vehicle inspection report; certificate of emissions inspection | 10/1/02 | 4/22/08, 73 FR 21540
5-91-350 | Data media | 1/24/97 | 9/1/99, 64 FR 47670
5-91-360 | Inspector identification number and access code usage | 10/1/02 | 4/22/08, 73 FR 21540 | Retitled and amended.
5-91-370 | Fleet emissions inspection stations; mobile fleet inspection stations | 10/1/02 | 4/22/08, 73 FR 21540
Part V Emissions Inspector Testing and Licensing
5-91-380 | Emissions inspector licenses and renewals | 10/21/02 | 4/22/08, 73 FR 21540
5-91-390 | Qualification requirements for emissions inspector licenses | 1/24/97 | 9/1/99, 64 FR 47670
5-91-400 | Conduct of emissions inspectors | 1/24/97 | 9/1/99, 64 FR 47670
Part VI Inspection Procedures
5-91-410 | General | 10/1/02 | 4/22/08, 73 FR 21540
5-91-420 | Inspection procedure; rejection, pass, fail, waiver | 10/1/02 | 4/22/08, 73 FR 21540
5-91-430 | ASM test procedure | 10/1/02 | 4/22/08, 73 FR 21540
5-91-440 | Two-speed idle test procedure | 10/1/02 | 4/22/08, 73 FR 21540
5-91-450 | Evaporative system pressure test and gas cap pressure test procedure | 10/1/02 | 4/22/08, 73 FR 21540 | Retitled and amended.
5-91-480 | Emissions related repairs | 10/1/02 | 4/22/08, 73 FR 21540
5-91-490 | Engine and fuel changes | 10/1/02 | 4/22/08, 73 FR 21540
Part VII Vehicle Emissions Repair Facility Certification
5-91-500 | Applicability and authority | 10/1/02 | 4/22/08, 73 FR 21540
5-90-510 | Certification qualifications | 10/1/02 | 4/22/08, 73 FR 21540
5-91-520 | Expiration, reinstatement, renewal, and requalification | 10/1/02 | 4/22/08, 73 FR 21540
5-91-530 | Emissions and repair facility operations | 10/1/02 | 4/22/08, 73 FR 21540
5-91-540 | Sign and certificate posting | 10/1/02 | 4/22/08, 73 FR 21540 | Retitled and amended.
Part VIII Emissions Repair Technician Certification and Responsibilities
5-91-550 | Applicability and authority | 10/1/02 | 4/22/08, 73 FR 21540
5-91-560 | Certification qualifications for emissions repair technicians | 10/1/02 | 4/22/08, 73 FR 21540
5-91-570 | Expiration, reinstatement, renewal and requalification | 10/1/02 | 4/22/08, 73 FR 21540
5-91-580 | Certified emissions repair technician responsibilities | 10/1/02 | 4/22/08, 73 FR 21540
Part IX Enforcement Procedures
5-91-590 | Enforcement of regulations, permits, licenses, certifications and orders | 10/1/02 | 4/22/08, 73 FR 21540
5-91-600 | General enforcement process | 10/1/02 | 4/22/08, 73 FR 21540
5-91-610 | Consent orders and penalties for violations | 10/1/02 | 4/22/08, 73 FR 21540
5-91-620 | Major violations | 10/1/02 | 4/22/08, 73 FR 21540
5-91-630 | Minor violations | 4/2/97 | 9/1/99, 64 FR 47670
Part X Analyzer System Certification and Specifications for Enhanced Emissions Inspections Programs
5-91-640 | Applicability | 1/24/97 | 9/1/99, 64 FR 47670
5-91-650 | Design goals | 10/1/02 | 4/22/08, 73 FR 21540
5-91-660 | Warranty; service contract | 10/1/02 | 4/22/08, 73 FR 21540
5-91-670 | Owner-provided services | 10/1/02 | 4/22/08, 73 FR 21540
5-91-680 | Certification of analyzer systems | 10/1/02 | 4/22/08, 73 FR 21540
5-91-690 | Span gases; gases for calibration purposes | 10/1/02 | 4/22/08, 73 FR 21540
5-91-700 | Calibration of exhaust gas analyzers | 10/1/02 | 4/22/08, 73 FR 21540
5-91-710 | Upgrade of analyzer system | 10/1/02 | 4/22/08, 73 FR 21540
Part XI Manufacturer Recall
5-91-720 | Vehicle manufacturers recall | 10/1/02 | 4/22/08, 73 FR 21540
5-91-730 | Exemptions; temporary extensions | 1/24/97 | 9/1/99, 64 FR 47670
Part XII On-Road Testing
5-91-740 | General requirements | 6/29/05 | 4/22/08, 73 FR 21540
5-91-750 | Operating procedures; violation of standards | 6/29/05 | 4/22/08, 73 FR 21540
5-91-760 | Schedule of civil charges | 6/29/05 | 4/22/08, 73 FR 21540
Part XIV ASM Exhaust Emission Standards
5-91-790 | ASM start-up standards | 10/1/02 | 4/22/08, 73 FR 21540
5-91-800 | ASM final standards | 10/1/02 | 4/22/08, 73 FR 21540
9 VAC 5, Chapter 140 Regulation for Emissions Trading
Part I NOX Budget Trading Program
Article 1 NOX Budget Trading Program General Provisions
5-140-10 | Purpose | 7/17/02 | 7/8/03, 68 FR 40520
5-140-20 | Definitions | 7/17/02 | 7/8/03, 68 FR 40520
5-140-30 | Measurements, abbreviations, and acronyms | 7/17/02 | 7/8/03, 68 FR 40520
5-140-31 | Federal Regulations Incorporated by reference | 7/17/02 | 7/8/03, 68 FR 40520
5-140-40 | Applicability | 7/17/02 | 7/8/03, 68 FR 40520
5-140-50 | Retired unit exemption | 7/17/02 | 7/8/03, 68 FR 40520
5-140-60 | Standard requirements | 7/17/02 | 7/8/03, 68 FR 40520
5-140-70 | Computation of time | 7/17/02 | 7/8/03, 68 FR 40520
Article 2 NOX Authorized Account Representative for NOX Budget Sources
5-140-100 | Authorization and responsibilities of the NOX authorized account representative | 7/17/02 | 7/8/03, 68 FR 40520
5-140-110 | Alternate NOX authorized account representative | 7/17/02 | 7/8/03, 68 FR 40520
5-140-120 | Changing the NOX authorized account representative and alternate NOX authorized account representative; changes in the owners and operators | 7/17/02 | 7/8/03, 68 FR 40520
5-140-130 | Account certificate of representation | 7/17/02 | 7/8/03, 68 FR 40520
5-140-140 | Objections concerning the NOX authorized account representative | 7/17/02 | 7/8/03, 68 FR 40520
Article 3 Permits
5-140-200 | General NOX Budget permit requirements | 7/17/02 | 7/8/03, 68 FR 40520
5-140-210 | Submission of NOX Budget permit applications | 7/17/02 | 7/8/03, 68 FR 40520
5-140-220 | Information requirements for NOX Budget permit applications | 7/17/02 | 7/8/03, 68 FR 40520
5-140-230 | NOX Budget permit contents | 7/17/02 | 7/8/03, 68 FR 40520
5-140-240 | Effective date of initial NOX Budget permit | 7/17/02 | 7/8/03, 68 FR 40520
5-140-250 | NOX Budget permit revisions | 7/17/02 | 7/8/03, 68 FR 40520
Article 4 Compliance Certification
5-140-300 | Compliance certification report | 7/17/02 | 7/8/03, 68 FR 40520
5-140-310 | Permitting authority's and administrator's actionon compliance certifications | 7/17/02 | 7/8/03, 68 FR 40520
Article 5 NOX Allowance Allocations
5-140-400 | State trading program budget | 7/17/02 | 7/8/03, 68 FR 40520
5-140-410 | Timing requirements for NOX allowance allocations | 7/17/02 | 7/8/03, 68 FR 40520
5-140-420 | NOX allowance allocations | 7/17/02 | 7/8/03, 68 FR 40520
5-140-430 | Compliance Supplement Pool | 7/17/02 | 7/8/03, 68 FR 40520
Article 6 NOX Allowance Tracking System
5-140-500 | NOX Allowance Tracking System accounts | 7/17/02 | 7/8/03, 68 FR 40520
5-140-510 | Establishment of accounts | 7/17/02 | 7/8/03, 68 FR 40520
5-140-520 | NOX Allowance Tracking System responsibilities of NOX authorized account representative | 7/17/02 | 7/8/03, 68 FR 40520
5-140-530 | Recordation of NOX allowance allocations | 7/17/02 | 7/8/03, 68 FR 40520
5-140-540 | Compliance | 7/17/02 | 7/8/03, 68 FR 40520
5-140-550 | Banking | 3/24/04 | 8/25/04, 69 FR 52174
5-140-560 | Account error | 7/17/02 | 7/8/03, 68 FR 40520
5-140-570 | Closing of general accounts | 7/17/02 | 7/8/03, 68 FR 40520
Article 7 NOX Allowance Transfers
5-140-600 | Scope and submission of NOX allowance transfers | 7/17/02 | 7/8/03, 68 FR 40520
5-140-610 | EPA recordation | 7/17/02 | 7/8/03, 68 FR 40520
5-140-620 | Notification | 7/17/02 | 7/8/03, 68 FR 40520
Article 8 Monitoring and Reporting
5-140-700 | General Requirements | 7/17/02 | 7/8/03, 68 FR 40520
5-140-710 | Initial certification and recertification procedures | 7/17/02 | 7/8/03, 68 FR 40520
5-140-720 | Out of control periods | 7/17/02 | 7/8/03, 68 FR 40520
5-140-730 | Notifications | 7/17/02 | 7/8/03, 68 FR 40520
5-140-740 | Recordkeeping and reporting | 7/17/02 | 7/8/03, 68 FR 40520
5-140-750 | Petitions. | 7/17/02 | 7/8/03, 68 FR 40520
5-140-760 | Additional requirements to provide heat input data for allocation purposes | 7/17/02 | 7/8/03, 68 FR 40520
Article 9 Individual Unit Opt-ins
5-140-800 | Applicability | 7/17/02 | 7/8/03, 68 FR 40520
5-140-810 | General | 7/17/02 | 7/8/03, 68 FR 40520
5-140-820 | NOX authorized account representative | 7/17/02 | 7/8/03, 68 FR 40520
5-140-830 | Applying for NOX Budget opt-in permit | 7/17/02 | 7/8/03, 68 FR 40520
5-140-840 | Opt-in process | 7/17/02 | 7/8/03, 68 FR 40520
5-140-850 | NOX Budget opt-in permit contents | 7/17/02 | 7/8/03, 68 FR 40520
5-140-860 | Withdrawal from NOX Budget Trading Program | 7/17/02 | 7/8/03, 68 FR 40520
5-140-870 | Change in regulatory status | 7/17/02 | 7/8/03, 68 FR 40520
5-140-880 | NOX allowance allocations to opt-in units | 7/17/02 | 7/8/03, 68 FR 40520
Article 10 State Trading Program Budget and Compliance Pool
5-140-900 | State trading program budget | 7/17/02 | 7/8/03, 68 FR 40520
5-140-910 | Compliance supplement pool budget | 7/17/02 | 7/8/03, 68 FR 40520
5-140-920 | Total electric generating unit allocations | 7/17/02 | 7/8/03, 68 FR 40520
5-140-930 | Total non-electric generating unit allocations | 7/17/02 | 7/8/03, 68 FR 40520
Part II NOX Annual Trading Program
Article 1 CAIR NOX Annual Trading Program General Provisions
5-140-1010 | Purpose | 4/18/07 | 12/28/07, 72 FR 73602
5-140-1020 | Definitions | 4/18/07 | 12/28/07, 72 FR 73602 | Except for definition of Nonattainment condition.
5-140-1030 | Measurements, abbreviations, and acronyms | 4/18/07 | 12/28/07, 72 FR 73602
5-140-1040 | Applicability | 4/18/07 | 12/28/07, 72 FR 73602
5-140-1050 | Retired Unit Exemption | 4/18/07 | 12/28/07, 72 FR 73602
5-140-1060 | Standard requirements | 4/18/07 | 12/28/07, 72 FR 73602
5-140-1070 | Computation of time | 4/18/07 | 12/28/07, 72 FR 73602
5-140-1080 | Appeal procedures | 4/18/07 | 12/28/07, 72 FR 73602
Article 2 CAIR-designated Representative for CAIR NOX Sources
5-140-1100 | Authorization and responsibilities of CAIR-designated representative | 4/18/07 | 12/28/07, 72 FR 73602
5-140-1110 | Alternate CAIR-designated representative | 4/18/07 | 12/28/07, 72 FR 73602
5-140-1120 | Changing CAIR-designated representative and alternate CAIR-designated representative; changes in owners and operators | 4/18/07 | 12/28/07, 72 FR 73602
5-140-1130 | Certificate of representation | 4/18/07 | 12/28/07, 72 FR 73602
5-140-1140 | Objections concerning CAIR-designated representative | 4/18/07 | 12/28/07, 72 FR 73602
5-140-1150 | Delegation by CAIR-designated representative and alternate CAIR-designated representative | 4/18/07
Article 3 Permits
5-140-1200 | General CAIR NOX Annual Trading Program permit requirements | 4/18/07 | 12/28/07, 72 FR 73602
5-140-1210 | Submission of CAIR permit applications | 4/18/07 | 12/28/07, 72 FR 73602
5-140-1220 | Information requirements for CAIR permit applications | 4/18/07 | 12/28/07, 72 FR 73602
5-140-1230 | CAIR permit contents and term | 4/18/07 | 12/28/07, 72 FR 73602
5-140-1240 | CAIR permit revisions | 4/18/07 | 12/28/07, 72 FR 73602
Article 5 CAIR NOX Allowance Allocations
5-140-1400 | CAIR NOX Annual trading budgets | 4/18/07 | 12/28/07, 72 FR 73602
5-140-1410 | Timing requirements for CAIR NOX allowance allocations | 4/18/07 | 12/28/07, 72 FR 73602
5-140-1420 | CAIR NOX allowance allocations | 4/18/07 | 12/28/07, 72 FR 73602
5-140-1430 | Compliance supplement pool | 4/18/07 | 12/28/07, 72 FR 73602
Article 6 CAIR NOX Allowance Tracking System
5-140-1510 | Establishment of accounts | 4/18/07 | 12/28/07, 72 FR 73602
5-140-1520 | Responsibilities of CAIR-authorized account representative | 4/18/07 | 12/28/07, 72 FR 73602
5-140-1530 | Recordation of CAIR NOX allowance allocations | 4/18/07 | 12/28/07, 72 FR 73602
5-140-1540 | Compliance with CAIR NOX emissions limitation | 4/18/07 | 12/28/07, 72 FR 73602
5-140-1550 | Banking | 4/18/07 | 12/28/07, 72 FR 73602
5-140-1560 | Account error | 4/18/07 | 12/28/07, 72 FR 73602
5-140-1570 | Closing of general accounts | 4/18/07 | 12/28/07, 72 FR 73602
Article 7 CAIR NOX Allowance Transfers
5-140-1600 | Submission of CAIR NOX allowance transfers | 4/18/07 | 12/28/07, 72 FR 73602
5-140-1610 | EPA recordation | 4/18/07 | 12/28/07, 72 FR 73602
5-140-1620 | Notification | 4/18/07 | 12/28/07, 72 FR 73602
Article 8 Monitoring and Reporting
5-140-1700 | General requirements | 4/18/07 | 12/28/07, 72 FR 73602
5-140-1710 | Initial certification and recertification procedures | 4/18/07 | 12/28/07, 72 FR 73602
5-140-1720 | Out of control periods | 4/18/07 | 12/28/07, 72 FR 73602
5-140-1730 | Notifications | 4/18/07 | 12/28/07, 72 FR 73602
5-140-1740 | Recordkeeping and reporting | 4/18/07 | 12/28/07, 72 FR 73602
5-140-1750 | Petitions | 4/18/07 | 12/28/07, 72 FR 73602
Article 9 CAIR NOX Opt-in Units
5-140-1800 | Applicability |  | 4/18/07 | 12/28/07, 72 FR 73602
5-140-1810 | General | 4/18/07 | 12/28/07, 72 FR 73602
5-140-1820 | CAIR-designated representative | 4/18/07 | 12/28/07, 72 FR 73602
5-140-1830 | Applying for CAIR opt-in permit | 4/18/07 | 12/28/07, 72 FR 73602
5-140-1840 | Opt-in process | 4/18/07 | 12/28/07, 72 FR 73602
5-140-1850 | CAIR opt-in permit content | 4/18/07 | 12/28/07, 72 FR 73602
5-140-1860 | Withdrawal from CAIR NOX Annual Trading Program | 4/18/07 | 12/28/07, 72 FR 73602
5-140-1870 | Change in regulatory status | 4/18/07 | 12/28/07, 72 FR 73602
5-140-1880 | CAIR NOX allowance allocations to CAIR NOX opt-in units | 4/18/07 | 12/28/07, 72 FR 73602
Part III NOX Ozone Season Trading Program
Article 1 CAIR NOX Ozone Season Trading Program General Provisions
5-140-2010 | Purpose | 4/18/07 | 12/28/07, 72 FR 73602
5-140-2020 | Definitions | 4/18/07 | 12/28/07, 72 FR 73602 | Except for definition of Nonattainment condition.
5-140-2030 | Measurements, abbreviations, and acronyms | 4/18/07 | 12/28/07, 72 FR 73602
5-140-2040 | Applicability | 4/18/07 | 12/28/07, 72 FR 73602
5-140-2050 | Retired unit exemption | 4/18/07 | 12/28/07, 72 FR 73602
5-140-2060 | Standard requirements | 4/18/07 | 12/28/07, 72 FR 73602
5-140-2070 | Computation of time | 4/18/07 | 12/28/07, 72 FR 73602
5-140-2080 | Appeal procedures | 4/18/07 | 12/28/07, 72 FR 73602
Article 2 CAIR-Designated Representative for CAIR NOX Ozone Season Sources
5-140-2100 | Authorization and responsibilities of CAIR-designated representative | 4/18/07 | 12/28/07, 72 FR 73602
5-140-2110 | Alternate CAIR-designated representative | 4/18/07 | 12/28/07, 72 FR 73602
5-140-2120 | Changing CAIR-designated representative and alternate CAIR-designated representative; changes in owners and operators | 4/18/07 | 12/28/07, 72 FR 73602
5-140-2130 | Certificate of representation | 4/18/07 | 12/28/07, 72 FR 73602
5-140-2140 | Objections concerning CAIR-designated representative | 4/18/07 | 12/28/07, 72 FR 73602
5-140-2150 | Delegation by CAIR-designated representative and alternate CAIR-designated representative | 4/18/07 | 12/28/07, 72 FR 73602
Article 3 Permits
5-140-2200 | General CAIR NOX Ozone Season Trading Program permit requirements | 4/18/07 | 12/28/07, 72 FR 73602
5-140-2210 | Submission of CAIR permit applications | 4/18/07 | 12/28/07, 72 FR 73602
5-140-2220 | Information requirements for CAIR permit applications | 4/18/07 | 12/28/07, 72 FR 73602
5-140-2230 | CAIR permit contents and term | 4/18/07 | 12/28/07, 72 FR 73602
5-140-2240 | CAIR permit revisions | 4/18/07 | 12/28/07, 72 FR 73602
Article 5 CAIR NOX Ozone Season Allowance Allocations
5-140-2400 | CAIR NOX Ozone Season trading budgets | 4/18/07 | 12/28/07, 72 FR 73602
5-140-2405 | State trading budgets for nonelectric generating units | 4/18/07 | 12/28/07, 72 FR 73602
5-140-2410 | Timing requirements for CAIR NOX Ozone Season allowance allocations | 4/18/07 | 12/28/07, 72 FR 73602
5-140-2420 | CAIR NOX Ozone Season allowance allocations | 4/18/07 | 12/28/07, 72 FR 73602
5-140-2430 | CAIR NOX Ozone Season allowance allocations for individual existing nonelectric generating units | 4/18/07 | 12/28/07, 72 FR 73602
Article 6 CAIR NOX Ozone Season Allowance Tracking System
5-140-2510 | Establishment of accounts | 4/18/07 | 12/28/07, 72 FR 73602
5-140-2520 | Responsibilities of CAIR-authorized account representative | 4/18/07 | 12/28/07, 72 FR 73602
5-140-2530 | Recordation of CAIR NOX Ozone Season allowance allocations | 4/18/07 | 12/28/07, 72 FR 73602
5-140-2540 | Compliance with CAIR NOX emissions limitation | 4/18/07 | 12/28/07, 72 FR 73602
5-140-2550 | Banking | 4/18/07 | 12/28/07, 72 FR 73602
5-140-2560 | Account error | 4/18/07 | 12/28/07, 72 FR 73602
5-140-2570 | Closing of general accounts | 4/18/07 | 12/28/07, 72 FR 73602
Article 7 CAIR NOX Ozone Season Allowance Transfers
5-140-2600 | Submission of CAIR NOX Ozone Season allowance transfers | 4/18/07 | 12/28/07, 72 FR 73602
5-140-2610 | EPA recordation | 4/18/07 | 12/28/07, 72 FR 73602
5-140-2620 | Notification | 4/18/07 | 12/28/07, 72 FR 73602
Article 8 Monitoring and Reporting
5-140-2700 | General requirements | 4/18/07 | 12/28/07, 72 FR 73602
5-140-2710 | Initial certification and recertification procedures | 4/18/07 | 12/28/07, 72 FR 73602
5-140-2720 | Out of control periods | 4/18/07 | 12/28/07, 72 FR 73602
5-140-2730 | Notifications | 4/18/07 | 12/28/07, 72 FR 73602
5-140-2740 | Recordkeeping and reporting | 4/18/07 | 12/28/07, 72 FR 73602
5-140-2750 | Petitions | 4/18/07 | 12/28/07, 72 FR 73602
Article 9 CAIR NOX Ozone Season Opt-in Units
5-140-2800 | Applicability | 4/18/07 | 12/28/07, 72 FR 73602
5-140-2810 | General | 4/18/07 | 12/28/07, 72 FR 73602
5-140-2820 | CAIR-designated representative | 4/18/07 | 12/28/07, 72 FR 73602
5-140-2830 | Applying for CAIR opt-in permit | 4/18/07 | 12/28/07, 72 FR 73602
5-140-2840 | Opt-in process | 4/18/07 | 12/28/07, 72 FR 73602
5-140-2850 | CAIR opt-in permit contents | 4/18/07 | 12/28/07, 72 FR 73602
5-140-2860 | Withdrawal from CAIR NOX Ozone Season Trading Program | 4/18/07 | 12/28/07, 72 FR 73602
5-140-2870 | Change in regulatory status | 4/18/07 | 12/28/07, 72 FR 73602
5-140-2880 | CAIR NOX Ozone Season allowance allocations to CAIR NOX Ozone Season opt-in units | 4/18/07 | 12/28/07, 72 FR 73602
Part IV SO2 Annual Trading Program
Article 1 CAIR SO2 Trading Program General Provisions
5-140-3010 | Purpose | 4/18/07 | 12/28/07, 72 FR 73602
5-140-3020 | Definitions | 4/18/07 | 12/28/07, 72 FR 73602 | Except for definition of Nonattainment condition.
5-140-3030 | Measurements, abbreviations, and acronyms | 4/18/07 | 12/28/07, 72 FR 73602
5-140-3040 | Applicability | 4/18/07 | 12/28/07, 72 FR 73602
5-140-3050 | Retired Unit Exemption | 4/18/07 | 12/28/07, 72 FR 73602
5-140-3060 | Standard requirements | 4/18/07 | 12/28/07, 72 FR 73602
5-140-3070 | Computation of time | 4/18/07 | 12/28/07, 72 FR 73602
5-140-3080 | Appeal procedures | 4/18/07 | 12/28/07, 72 FR 73602
Article 2 CAIR-designated Representative for CAIR SO2 Sources
5-140-3100 | Authorization and responsibilities of CAIR-designated representative | 4/18/07 | 12/28/07, 72 FR 73602
5-140-3110 | Alternate CAIR-designated representative | 4/18/07 | 12/28/07, 72 FR 73602
5-140-3120 | Changing CAIR-designated representative and alternate CAIR-designated representative; changes in owners and operators | 4/18/07 | 12/28/07, 72 FR 73602
5-140-3130 | Certificate of representation | 4/18/07 | 12/28/07, 72 FR 73602
5-140-3140 | Objections concerning CAIR-designated representative | 4/18/07 | 12/28/07, 72 FR 73602
5-140-3150 | Delegation by CAIR-designated representative and alternate CAIR-designated representative | 4/18/07 | 12/28/07, 72 FR 73602
Article 3 Permits
5-140-3200 | General CAIR SO2 Trading Program permit requirements | 4/18/07 | 12/28/07, 72 FR 73602
5-140-3210 | Submission of CAIR permit applications | 4/18/07 | 12/28/07, 72 FR 73602
5-140-3220 | Information requirements for CAIR permit applications | 4/18/07 | 12/28/07, 72 FR 73602
5-140-3230 | CAIR permit contents and term | 4/18/07 | 12/28/07, 72 FR 73602
5-140-3240 | CAIR permit revisions | 4/18/07 | 12/28/07, 72 FR 73602
Article 5 CAIR SO2 Allowance Allocations
5-140-3400 | State trading budgets | 4/18/07 | 12/28/07, 72 FR 73602
5-140-3410 | Timing requirements for CAIR SO2 allowance allocations | 4/18/07 | 12/28/07, 72 FR 73602
5-140-3420 | CAIR SO2 allowance allocations | 4/18/07 | 12/28/07, 72 FR 73602
Article 6 CAIR SO2 Allowance Tracking System
5-140-3510 | Establishment of accounts | 4/18/07 | 12/28/07, 72 FR 73602
5-140-3520 | Responsibilities of CAIR-authorized account representative | 4/18/07 | 12/28/07, 72 FR 73602
5-140-3530 | Recordation of CAIR SO2 allowances | 4/18/07 | 12/28/07, 72 FR 73602
5-140-3540 | Compliance with CAIR SO2 emissions limitation | 4/18/07 | 12/28/07, 72 FR 73602
5-140-3550 | Banking | 4/18/07 | 12/28/07, 72 FR 73602
5-140-3560 | Account error | 4/18/07 | 12/28/07, 72 FR 73602
5-140-3570 | Closing of general accounts | 4/18/07 | 12/28/07, 72 FR 73602
Article 7 CAIR SO2 Allowance Transfers
5-140-3600 | Submission of CAIR SO2 allowance transfers | 4/18/07 | 12/28/07, 72 FR 73602
5-140-3610 | EPA recordation | 4/18/07 | 12/28/07, 72 FR 73602
5-140-3620 | Notification | 4/18/07 | 12/28/07, 72 FR 73602
Article 8 Monitoring and Reporting
5-140-3700 | General requirements | 4/18/07 | 12/28/07, 72 FR 73602
5-140-3710 | Initial certification and recertification procedures | 4/18/07 | 12/28/07, 72 FR 73602
5-140-3720 | Out of control periods | 4/18/07 | 12/28/07, 72 FR 73602
5-140-3730 | Notifications | 4/18/07 | 12/28/07, 72 FR 73602
5-140-3740 | Recordkeeping and reporting | 4/18/07 | 12/28/07, 72 FR 73602
5-140-3750 | Petitions | 4/18/07 | 12/28/07, 72 FR 73602
Article 9 CAIR SO2 Opt-in Units
5-140-3800 | Applicability | 4/18/07 | 12/28/07, 72 FR 73602
5-140-3810 | General | 4/18/07 | 12/28/07, 72 FR 73602
5-140-3820 | CAIR-designated representative | 4/18/07 | 12/28/07, 72 FR 73602
5-140-3830 | Applying for CAIR opt-in permit | 4/18/07 | 12/28/07, 72 FR 73602
5-140-3840 | Opt-in process | 4/18/07 | 12/28/07, 72 FR 73602
5-140-3850 | CAIR opt-in permit contents | 4/18/07 | 12/28/07, 72 FR 73602
5-140-3860 | Withdrawal from CAIR SO2 Trading Program | 4/18/07 | 12/28/07, 72 FR 73602
5-140-3870 | Change in regulatory status | 4/18/07 | 12/28/07, 72 FR 73602
5-140-3880 | CAIR SO2 allowance allocations to CAIR SO2 opt-in units | 4/18/07 | 12/28/07, 72 FR 73602
9 VAC 5, Chapter 160 Regulation for General Conformity
Part I General Definitions
5-160-10 | General | 1/1/98 | 1/7/03, 68 FR 663
5-160-20 | Terms Defined | 1/1/97 | 10/21/97, 62 FR 54585
5-160-20 | Terms Defined | 1/1/97, 1/1/98 | 1/7/03, 68 FR 663 | Terms revised—Emergency Terms deleted—Administrative Process Act, Confidential information, Consent agreement, Consent order, Emergency special order, Formal hearing, Order, Party, Public hearing, Special order, Variance, Virginia Register Act.
Part II General Provisions
5-160-30 | Applicability | 1/1/97 | 10/21/97, 62 FR 54585
5-160-40 | Authority of board and department | 1/1/97 | 10/21/97, 62 FR 54585
5-160-80 | Relationship of state regulations to Federal regulations | 1/1/97 | 10/21/97, 62 FR 54585
Part III Criteria and Procedures for Making Conformity Determinations
5-160-110 | General | 1/1/97 | 10/21/97, 62 FR 54585 | § 52.2465(c)(118).
5-160-120 | Conformity analysis | 1/1/97 | 10/21/97, 62 FR 54585
5-160-130 | Reporting requirements | 1/1/97 | 10/21/97, 62 FR 54585
5-160-140 | Public participation | 1/1/97 | 10/21/97, 62 FR 54585
5-160-150 | Frequency of conformity determinations | 1/1/97 | 10/21/97, 62 FR 54585
5-160-160 | Criteria for determining conformity | 1/1/97 | 10/21/97, 62 FR 54585
5-160-170 | Procedures for conformity determinations | 1/1/97 | 10/21/97, 62 FR 54585
5-160-180 | Mitigation of air quality impacts | 1/1/97 | 10/21/97, 62 FR 54585
5-160-190 | Savings provision | 1/1/97 | 10/21/97, 62 FR 54585
5-160-200 | Review and confirmation of this chapter by board | 1/1/97 | 10/21/97, 62 FR 54585
9 VAC 5, Chapter 170 Regulation for General Administration
Part I Definitions
5-170-10 | Use of Terms | 1/1/98 | 1/7/03, 68 FR 663 | Split out from 9 VAC 5-10-10.
5-170-20 | Terms Defined | 1/1/98 | 1/7/03, 68 FR 663 | Split out from 9 VAC 5-10-20 and 5-160-20. Terms Added-Public hearing, Regulation of the Board Terms Revised from 4/17/95 version-Consent agreement, Consent order, Emergency special order, Order, Owner, Person, Pollutant, Special Order, Source.
Part II General Provisions
5-170-30 | Applicability | 1/1/98 | 1/7/03, 68 FR 663 | Split out from 9 VAC 5-20-10.
5-170-60 | Availability of Information | 1/1/98 | 1/7/03, 68 FR 663 | Replaces 9 VAC 5-20-150 and 5-160-100.
Part V Enforcement
5-170-120A.-C. | Enforcement of Regulations, Permits and Orders | 1/1/98 | 1/7/03, 68 FR 663 | Replaces 9 VAC 5-20-30A. D. and 5-160-60.
5-170-130A. | Right of Entry | 1/1/98 | 1/7/03, 68 FR 663 | Replaces 9 VAC 5-20-100.
Part VI Board Actions
5-170-150 | Local Ordinances | 1/1/98 | 1/7/03, 68 FR 663 | Replaces 9 VAC 5-20-60.
5-170-160 | Conditions on Approvals | 1/1/98 | 1/7/03, 68 FR 663 | Replaces 9 VAC 5-20-110.
5-170-170 | Considerations for Approval Actions | 1/1/98 | 1/7/03, 68 FR 663 | Replaces 9 VAC 5-20-140.
9 VAC 5, Chapter 200 National Low Emission Vehicle Program
5-200-10 | Definitions | 4/14/99 | 12/28/99, 64 FR 72564
5-200-20 | Participation in national LEV | 4/14/99 | 12/28/99, 64 FR 72564
5-200-30 | Transition from national LEV requirements to a Virginia Sec. 177 program | 4/14/99 | 12/28/99, 64 FR 72564
9 VAC 5, Chapter 230 Variance for International Paper Franklin Paper Mill
5-230-10 | Applicability and designation of affected facility | 9/7/05 | 8/13/07, 45 FR 45165
5-230-20 | Definitions | 9/7/05 | 8/13/07, 45 FR 45165
5-230-30 | Authority to operate under this chapter and FESOP | 9/7/05 | 8/13/07, 45 FR 45165
5-230-40 (Except A.7., A.9., A.10., and B.2.) | Sitewide Emissions Caps | 9/7/05 | 8/13/07, 45 FR 45165
5-230-50 | New Source Review program and registration requirements | 9/7/05 | 8/13/07, 45 FR 45165
5-230-60 (Except A 1.) | Other regulatory requirements | 9/7/05 | 8/13/07, 45 FR 45165
5-230-70 | Federal Operating Permits | 9/7/05 | 8/13/07, 45 FR 45165
5-230-80 | FESOP issuance and amendments | 9/7/05 | 8/13/07, 45 FR 45165
5-230-90 | Transfer of ownership | 9/7/05 | 8/13/07, 45 FR 45165
5-230-110 | Termination of authority to operate under this chapter and FESOP | 9/7/05 | 8/13/07, 45 FR 45165
5-230-120 | Review and confirmation of this chapter by Board | 9/7/05 | 8/13/07, 45 FR 45165
2 VAC 5, Chapter 480 Regulation Governing the Oxygenation of Gasoline
5-480-10 | Definitions | 11/1/93 | 1/7/03, 68 FR 663 | VR115-04-28, § 1.
5-480-20 | Applicability | 11/1/96 | 2/17/00, 65 FR 8051
5-480-30 | Minimum oxygenate content | 11/1/93 | 1/7/03, 68 FR 663 | VR115-04-28, § 3.
5-480-40 | Nature of oxygenates | 11/1/93 | 1/7/03, 68 FR 663 | VR115-04-28, § 4.
5-480-50 | Record keeping and transfer requirements | 11/1/93 | 1/7/03, 68 FR 663 | VR115-04-28, § 5.
5-480-60 | Gasoline pump labeling | 11/1/93 | 1/7/03, 68 FR 663 | VR115-04-28, § 6.
5-480-70 | Sampling, testing and oxygen content calculations | 11/1/93 | 1/7/03, 68 FR 663 | VR115-04-28, § 7.
5-480-80 | Compliance and enforcement | 11/1/93 | 1/7/03, 68 FR 663 | VR115-04-28, § 8.
Code of Virginia
Section 10.1-1316.1A. Through D | Severe ozone nonattainment areas; fees | 7/1/04 | 12/29/04, 69 FR 77909 | Provision authorizes the Department of Environmental Quality (DEQ) to collect Federal penalty fees from major stationary sources if the nonattainment area does not attain the ozone standard by the statutory attainment date.

(d) EPA-Approved State Source-Specific Requirements

EPA-Approved Source Specific Requirements
Source name | Permit/order or registration number | State effective date | EPA approval date | 40 CFR part 52 citation
Norfolk Naval Base-Exchange Service Station | [NONE] | 8/6/79 | 8/17/81, 46 FR 41499 | 52.2465(c)(41).
Reynolds Metals Co.-Rolling Mill | DSE-597-87 | 9/30/87 | 8/20/90, 55 FR 33904 | 52.2465(c)(92).
Aqualon (Hercules) Company | 50363 | 9/26/90 | 11/1/91, 56 FR 56159 | 52.2465(c)(93).
Nabisco Brands, Inc | DTE-179-91 | 4/24/91 | 3/6/92, 57 FR 8080 | 52.2465(c)(95).
Reynolds Metals Co.-Bellwood | DSE-413A-86 | 10/31/86 | 6/13/96, 61 FR 29963 | 52.2465(c)(110).
Reynolds Metals Co.-Richmond Foil Plant | DSE-412A-86 | 10/31/86 | 6/13/96, 61 FR 29963 | 52.2465(c)(110).
Philip Morris, Inc.—Blended Leaf Facility | 50080 | 2/27/86 | 10/14/97, 62 FR 53277 | 52.2465(c)(120).
Philip Morris, Inc.—Park 500 Facility | 50722 | 3/26/97 | 10/14/97, 62 FR 53277 | 52.2465(c)(120).
Philip Morris, Inc.—Richmond Manufacturing Center | 50076 | 7/13/96 | 10/14/97, 62 FR 53277 | 52.2465(c)(120).
Virginia Electric and Power Co.—Innsbrook Technical Center | 50396 | 5/30/96 | 10/14/97, 62 FR 53277 | 52.2465(c)(120).
Hercules, Inc.-Aqualon Division | V-0163-96 | 7/12/96 | 10/14/97, 62 FR 53277 | 52.2465(c)(120).
City of Hopewell-Regional Wastewater Treatment Facility | 50735 | 5/30/96 | 10/14/97, 62 FR 53277 | 52.2465(c)(120).
Allied Signal, Inc.-Hopewell Plant | 50232 | 3/26/97 | 10/14/97, 62 FR 53277 | 52.2465(c)(121).
Allied Signal, Inc.-Chesterfield Plant | V-0114-96 | 5/20/96 | 10/14/97, 62 FR 53277 | 52.2465(c)(121).
Bear Island Paper Co. L.P | V-0135-96 | 7/12/96 | 10/14/97, 62 FR 53277 | 52.2465(c)(121).
Stone Container Corp.—Hopewell Mill | 50370 | 5/30/96 | 10/14/97, 62 FR 53277 | 52.2465(c)(121).
E.I. Dupont de Nemours and Co.—Spruance Plant | V-0117-96 | 5/30/96 | 10/14/97, 62 FR 53277 | 52.2465(c)(121).
ICI Americas Inc.—Films Division-Hopewell Site | 50418 | 5/30/96 | 10/14/97, 62 FR 53277 | 52.2465(c)(121).
Tuscarora, Inc | 71814 | 6/5/96 | 1/22/99, 64 FR 3425 | 52.2465(c)(128).
Potomac Electric Power Company (PEPCO)-Potomac River Generating Station [Permit to Operate] | Registration No. 70228; County-Plant No. 510-0003 | 9/18/00 | 12/14/00, 65 FR 78100 | 52.2420(d)(2).
Virginia Power (VP)—(Possum Point Generating Station [Permit to Operate] | Registration No. 70225; County-Plant No. 153-0002 | 9/26/00 | 12/14/00, 65 FR 78100 | 52.2420(d)(2).
Cellofoam North America, Inc.—Falmouth Plant [Consent Agreement] | Registration No. 40696; FSO-193-98 | 8/10/98 | 1/02/01, 66 FR 8 | 52.2420(d)(3).
CNG Transmission Corporation—Leesburg Compressor Station [Permit to Operate] | Registration No. 71978; County-Plant No. 107-0101 | 5/22/00 | 1/02/01, 66 FR 8 | 52.2420(d)(3).
Columbia Gas Transmission Company—Loudoun County Compressor Station [Permit to Operate] | Registration No. 72265; County-Plant No. 107-0125 | 5/23/00 | 1/02/01, 66 FR 8 | 52.2420(d)(3).
District of Columbia's Department of Corrections—Lorton Correctional Facility [Permit to Operate] | Registration No. 70028; County-Plant No. 0059-0024 | 12/10/99 | 1/02/01, 66 FR 8 | 52.2420(d)(3).
Michigan Cogeneration Systems, Inc.—Fairfax County I-95 Landfill [Permit to Operate] | Registration No. 71961; County-Plant No. 0059-0575 | 5/10/00 | 1/02/01, 66 FR 8 | 52.2420(d)(3).
Metropolitan Washington Airports Authority—Ronald Reagan Washington National Airport [Permit to Operate] | Registration No. 70005; County-Plant No. 0013-0015 | 5/22/00 | 1/02/01, 66 FR 8 | 52.2420(d)(3).
Norman M. Cole, Jr., Pollution Control Plant [Consent Agreement] | Registration No. 70714 | 12/13/99 | 1/02/01, 66 FR 8 | 52.2420(d)(3).
Ogden Martin Systems of Alexandria/Arlington, Inc. [Consent Agreement] | Registration No. 71895; NVRO-041-98 | 7/31/98 | 1/02/01, 66 FR 8 | 52.2420(d)(3).
Ogden Martin Systems of Fairfax, Inc. [Consent Agreement] | Registration No. 71920 | 4/3/98 | 1/02/01, 66 FR 8 | 52.2420(d)(3).
U.S. Department of Defense—Pentagon Reservation [Permit to Operate] | Registration No. 70030; County-Plant No. 0013-0188 | 5/17/00 | 1/02/01, 66 FR 8 | 52.2420(d)(3).
Potomac Electric Power Company (PEPCO)—Potomac River Generating Station [Consent Agreement] | Registration No. 70228; NVRO-106-98 | 7/31/98 | 1/02/01, 66 FR 8 | 52.2420(d)(3), NOX RACT requirements.
Potomac Electric Power Company (PEPCO)—Potomac River Generating Station | Registration No. 70228; County Plant No. 510-0003 | 5/8/00 | 1/02/01, 66 FR 8 | 52.2420(d)(3) VOC RACT requirements.
United States Marine Corps.—Quantico Base [Permit to Operate] | Registration No. 70267; County-Plant No. 153-0010 | 5/24/00 | 1/02/01, 66 FR 8 | 52.2420(d)(3).
Transcontinental Gas Pipeline Corporation—Compressor Station No.185 [Consent Agreement] | Registration No. 71958 | 9/5/96 | 1/02/01, 66 FR 8 | 52.2420(d)(3).
U.S. Army Garrison at Fort Belvoir [Permit to Operate] | Registration No. 70550; County-Plant No. 059-0018 | 5/16/00 | 1/02/01, 66 FR 8 | 52.2420(d)(3).
Virginia Power (VP)—(Possum Point Generating Station [Permit containing NOX RACT requirements] | Registration No. 70225; County-Plant No. 153-0002 | 7/21/00 | 1/02/01, 66 FR 8 | 52.2420(d)(3).
Virginia Electric and Power Company—Possum Point Generating Station [Consent Agreement containing VOC RACT requirements] | Registration No. 70225 | 6/12/95 | 1/02/01, 66 FR 8 | 52.2420(d)(3).
Washington Gas Light Company—Springfield Operations Center [Consent Agreement] | Registration No. 70151; NVRO-031-98 | 4/3/98 | 1/02/01, 66 FR 8 | 52.2420(d)(3).
Georgia Pacific—Jarratt Softboard Plant | Registration No. 50253 | 9/28/98 | 3/26/03, 68 FR 14542 | 40 CFR 52.2420(d)(4); Note: In Section E, Provision 1, the portion of the text which reads “ * * * and during periods of start-up, shutdown, and malfunction.” is not part of the SIP.
Prince William County Landfill | Registration No. 72340 | 4/16/04 | 9/9/04, 69 FR 54581 | 52.2420(d)(5).
Washington Gas Company, Ravensworth Station | Registration No. 72277 | 4/16/04 8/11/04 | 10/6/04, 69 FR 59812 | 52.2420(d)(6).
Central Intelligence Agency (CIA), George Bush Center for Intelligence | Registration No. 71757 | 4/16/04 | 12/13/04, 69 FR 72115 | 52.2420(d)(6).
National Reconnaissance Office, Boeing Service Center | Registration No. 71988 | 4/16/04 | 12/13/04, 69 FR 72115 | 52.2420(d)(6).
Roanoke Electric Steel Corp | Registration No. 20131 | 12/22/04 | 4/27/05, 70 FR 21621 | 52.2420(d)(7).
Roanoke Cement Company | Registration No. 20232 | 12/22/04 | 4/27/05, 70 FR 21621 | 52.2420(d)(7).
Global Stone Chemstone Corporation | Registration No. 80504 | 02/9/05 | 4/27/05, 70 FR 21621 | 52.2420(d)(7).
Kraft Foods Global, Inc.—Richmond Bakery | Registration No. 50703 | 9/19/07 | 4/15/08, 73 FR 20175 | 52.2420(d)(8).
Transcontinental Pipeline Station 165 | Registration No. 30864 | 1/24/07 | 10/30/08, 73 FR 64551 | 52.2420(d)(9).
Transcontinental Pipeline Station 170 | Registration No. 30863 | 1/24/07 | 10/30/08, 73 FR 64551 | 52.2420(d)(9).
Transcontinental Pipeline Station 175 | Registration No. 40789 | 1/30/07 | 10/30/08, 73 FR 64551 | 52.2420(d)(9).
Transcontinental Pipeline Station 180 | Registration No. 40782 | 2/13/07 | 10/30/08, 73 FR 64551 | 52.2420(d)(9).
Roanoke Cement Corporation | Registration No. 20232 | 6/18/07 | 10/30/08, 73 FR 64551 | 52.2420(d)(9).
Reynolds Consumer Products Company | Registration No. 50534 | 10/1/08 | 3/25/09, 74 FR 12572 | 52.2420(d)(12). The SIP effective date is 5/26/09.

(e) EPA-approved nonregulatory and quasi-regulatory material.

Name of non-regulatory SIP revision | Applicable geographic area | State submittal date | EPA approval date | Additional explanation
Commitment Letter—Clean fuel fleet or alternative substitute program | Northern Virginia Ozone nonattainment Area | 1/25/93 | 9/23/93, 58 FR 50846 | 52.2423(j).
9 VAC 5-60-100 (adopts 40 CFR 63.460 through 63.469 by reference) | Statewide | 10/9/98 | 11/3/99, 64 FR 59648 | 52.2423(q).
Documents Incorporated by Reference | Statewide | 4/12/89 | 8/23/95, 60 FR 43714 | 52.2423(m).
Documents Incorporated by Reference | Statewide | 2/12/93 | 8/23/95, 60 FR 43714 | 52.2423(n).
Documents Incorporated by Reference (9 VAC 5-20-21, Section E) | Statewide | 6/22/99 | 1/7/03, 68 FR 663 | 52.2423(r).
Documents Incorporated by Reference (9 VAC 5-20-21, paragraph E.12) | Statewide | 2/23/04 | 6/8/04, 69 FR 31893 | 52.2423(s).
Documents Incorporated by Reference | Northern Virginia VOC Emissions Control Area designated in 9 VAC 5-20-206 | 3/24/04 | 5/12/05, 70 FR 24970 | 9 VAC 5-20-21, Sections E.1.a.(7)., E.4.a.(12) through a.(17), E.10., E.11., E.13.a.(1), and E.13.a.(2).
Documents Incorporated by Reference (9 VAC 5-20-21, Sections D., E. (introductory sentence), E.2 (all paragraphs), E.3.b, E.4.a.(1) and (2), E.4.b., E.5. (all paragraphs), and E.7. (all paragraphs)) | Statewide | 8/25/05 | 3/3/06, 71 FR 10838 | State effective date is 2/1/00.
Documents Incorporated by Reference (9 VAC 5-20-21, Section B | Statewide | 10/25/05 | 3/3/06, 71 FR 10838 | State effective date is 3/9/05; approval is for those provisions of the CFR which implement control programs for air pollutants related to the national ambient air quality standards (NAAQS) and regional haze.
Documents Incorporated by Reference | Northern Virginia VOC Emissions Control Area designated in 9 VAC 5-20-206 | 10/25/05 | 1/30/07, 72 FR 4207 | State effective date is 3/9/05. 9 VAC 5-20-21, Sections E.1.a.(16)., E.4.a.(18) through a.(20), E.6.a, E.11.a.(3), E.12.a.(5) through a.(8), E.14.a. and E.14.b.
Documents Incorporated by Reference (9 VAC 5-20-21, Paragraphs E.4.a. (21) and (22)) | Fredericksburg VOC Emissions Control Area Designated in 9 VAC 5-20-206 | 05/14/07 | 12/5/07, 72 FR 68511 | State effective date is 10/04/06.
Motor vehicle emissions budgets | Hampton Roads Ozone Maintenance Area | 8/29/96 | 6/26/97, 62 FR 34408 | 52.2424(a).
Motor vehicle emissions budgets | Richmond Ozone Maintenance Area | 7/30/96 | 11/17/97, 62 FR 61237 | 52.2424(b).
1990 Base Year Emissions Inventory-Carbon Monoxide (CO) | Metropolitan Washington Area | 11/1/93 4/3/95 10/12/95 | 1/30/96, 61 FR 2931 | 52.2425(a).
1990 Base Year Emissions Inventory-Carbon Monoxide (CO), oxides of nitrogen (NOX), & volatile organic compounds (VOC) | Richmond-Petersburg, Norfolk-Virginia Beach, and Smyth County Ozone Areas | 11/11/92 11/18/92 11/1/93 12/15/94 | 9/16/96, 61 FR 48657 | 52.2425(b).
1990 Base Year Emissions Inventory-Carbon Monoxide (CO), oxides of nitrogen (NOX), & volatile organic compounds (VOC) | Northern Virginia (Metropolitan Washington) Ozone Nonattainment Area | 11/30/92 11/1/93 4/3/95 | 9/16/96, 61 FR 54656 | 52.2425(c).
1990 Base Year Emissions Inventory-oxides of nitrogen (NOX), & volatile organic compounds (VOC) | Northern Virginia (Metropolitan Washington) Ozone Nonattainment Area | 12/17/97 | 7/8/98, 63 FR 36854
Photochemical Assessment Monitoring Stations (PAMS) Program | Northern Virginia (Metropolitan Washington) Ozone Nonattainment Area | 11/15/94 | 9/11/95, 60 FR 47081 | 52.2426.
Attainment determination of the ozone NAAQS | Richmond Ozone Nonattainment Area | 7/26/96 | 10/6/97, 62 FR 52029 | 52.2428(a).
15% rate of progress plan | Northern Virginia (Metropolitan Washington) Ozone Nonattainment Area | 4/14/98 | 10/6/00, 65 FR 59727 | 52.2428(b).
Small business stationary source technical and environmental assistance program | Statewide | 11/10/92 | 2/14/94, 59 FR 5327 | 52.2460.
Establishment of Air Quality Monitoring Network | Statewide | 3/24/80 | 12/5/80, 45 FR 86530 | 52.2465(c)(38).
Lead (Pb) SIP | Statewide | 12/31/80 | 3/21/82, 45 FR 8566 | 52.2465(c)(61).
Carbon Monoxide Maintenance Plan | Arlington County & Alexandria City | 10/4/95 | 1/30/96, 61 FR 2931 | 52.2465(c)(107).
|  | 3/22/04 | 04/04/05, 70 FR 16958 | Revised Carbon Monoxide Maintenance Plan Base Year Emissions Inventory using MOBILE6.
Ozone Maintenance Plan, emissions inventory & contingency measures | Hampton Roads Area | 8/27/96 | 6/26/97, 62 FR 34408 | 52.2465(c)(117).
Ozone Maintenance Plan, emissions inventory & contingency measures | Richmond Area | 7/26/96 | 11/17/97, 62 FR 61237 | 52.2465(c)(119).
Non-Regulatory Voluntary Emission Reduction Program | Washington, DC, severe 1-hour ozone nonattainment area | 2/25/04 | 5/12/05, 70 FR 24987 | The nonregulatory measures found in section 7.6 and Appendix J of the plan.
1996-1999 Rate-of-Progress Plan SIP and the Transportation Control Measures (TCMs) in Appendix H | Washington 1-hour ozone nonattainment area | 12/29/03 5/25/99 | 5/16/05, 70 FR 25688 | Only the TCMs in Appendix H of the 5/25/1999 revision, 1999 motor vehicle emissions budgets of 128.5 tons per day (tpy) of VOC and 196.4 tpy of NOX.
1990 Base Year Inventory Revisions | Washington 1-hour ozone nonattainment area | 8/19/03 2/25/04 | 5/16/05, 70 FR 25688
1999-2005 Rate-of-Progress Plan SIP Revision and the Transportation Control Measures (TCMs) in Appendix J | Washington 1-hour ozone nonattainment area | 8/19/03 2/25/04 | 5/16/05, 70 FR 25688 | Only the TCMs in Appendix J of the 2/25/2004 revision, 2002 motor vehicle emissions budgets (MVEBs) of 125.2 tons per day (tpy) for VOC and 290.3 tpy of NOX, and, 2005 MVEBs of 97.4 tpy for VOC and 234.7 tpy of NOX.
VMT Offset SIP Revision | Washington 1-hour ozone nonattainment area | 8/19/03 2/25/04 | 5/16/05, 70 FR 25688
Contingency Measure Plan | Washington 1-hour ozone nonattainment area | 8/19/03 2/25/04 | 5/16/05, 70 FR 25688
1-Hour Ozone Modeled Demonstration of Attainment and Attainment Plan | Washington 1-hour ozone nonattainment area | 8/19/03 2/25/04 | 5/16/05, 70 FR 25688 | 2005 motor vehicle emissions budgets of 97.4 tons per day (tpy) for VOC and 234.7 tpy of NOX.
Attainment Demonstration and Early Action Plan for the Roanoke MSA Ozone Early Action Compact Area | Botetourt County, Roanoke City, Roanoke County, and Salem City | 12/21/04 2/15/05 | 8/17/05, 70 FR 43277
Attainment Demonstration and Early Action Plan for the Northern Shenandoah Valley Ozone Early Action Compact Area | City of Winchester and Frederick County | 12/20/04 02/15/05 | 8/17/05, 70 FR 43280
8-Hour Ozone Maintenance Plan for the Fredericksburg VA Area | City of Fredericksburg, Spotsylvania County, and Stafford County | 5/4/05 | 12/23/05, 70 FR 76165
8-Hour Ozone Maintenance Plan for the Madison & Page Cos. (Shenandoah NP), VA Area | Madison County (part) and Page County (part) | 9/23/05 | 1/3/05, 71 FR 24
8-Hour Ozone Maintenance Plan and 2002 Base Year Emissions Inventory | Norfolk-Virginia Beach-Newport News (Hampton Roads), VA Area | 10/12/06 10/16/06 10/18/06 11/20/06 2/13/07 | 6/1/07, 72 FR 30490 | The SIP effective date is 6/1/07.
8-Hour Ozone Maintenance Plan and 2002 Base Year Emissions Inventory | Richmond-Petersburg VA Area | 9/18/06 9/20/06 9/25/06 11/17/06 2/13/07 | 6/1/07, 72 FR 30485 | The SIP effective date is 6/18/07.
Ozone Maintenance Plan | White Top Mountain, Smyth County, VA 1-hour Ozone Nonattainment Area | 8/6/07 | 4/29/08, 73 FR 23103
RACT under the 8-Hour NAAQS | Stafford County | 4/21/08 | 12/22/08, 73 FR 78192

[FR Doc. E9-16366 Filed 7-10-09; 8:45 am]

BILLING CODE 6560-60-P